ARCHITECTURAL AND TRANSPORTATION BARRIERS COMPLIANCE BOARD

36 CFR Part 1191

RIN 3014-AA39

Americans With Disabilities Act (ADA) and Architectural Barriers Act (ABA) Accessibility Guidelines; Emergency Transportable Housing Units

AGENCY: Architectural and Transportation Barriers Compliance Board.

ACTION: Final rule.

SUMMARY: We, the Architectural and Transportation Barriers Compliance Board (Access Board), are issuing a final rule that amends the Americans with Disabilities Act (ADA) and Architectural Barriers Act (ABA) Accessibility Guidelines to specifically address emergency transportable housing units provided to disaster survivors by entities subject to the ADA or ABA. The final rule ensures that the emergency transportable housing units are readily accessible to and usable by disaster survivors with disabilities. The U.S. Department of Justice (DOJ) is required to update its accessibility standards for the design, construction, and alteration of facilities (other than certain transportation facilities) by entities subject to the ADA to be consistent with the final rule. The U.S. Department of Housing and Urban Development (HUD) is required to update its accessibility standards for the design, construction, and alteration of residential facilities by entities subject to the ABA to be consistent with the final rule.

DATES: The final rule is effective June 6, 2014. Compliance is not required by entities subject to the ADA until DOJ updates its accessibility standards to be consistent with the final rule. Compliance is not required by entities subject to the ABA until HUD updates its accessibility standards to be consistent with the final rule.

The incorporation by reference of certain publications listed in the rule was approved by the Director of the Federal Register as of September 21, 2004.

FOR FURTHER INFORMATION CONTACT: Marsha Mazz, U.S. Access Board, 1331 F Street NW., Suite 1000, Washington, DC 20004-1111. Telephone numbers: (202) 272-0020 (voice) or (202) 272-0076 (TTY). Email address: mazz@access-board.gov.

SUPPLEMENTARY INFORMATION:

Table of Contents for Preamble

1. Executive Summary

2. Statutory and Regulatory Background

3. Federal Emergency Management Agency (FEMA)

4. Rulemaking History

5. Comments on Proposed Rule

A. Scoping Requirements for Units With Mobility Features

B. Scoping Requirements for Units With Communication Features

C. Needs of Individuals With Chemical and Electrical Sensitivities

6. Discussion of Final Rule

7. Regulatory Analyses

In this preamble, “we,” “our” and “us” refer to the Architectural and Transportation Barriers Compliance Board (Access Board).¹

¹ The Access Board is an independent federal agency established by section 502 of the Rehabilitation Act. See 29 U.S.C. 792. The Access Board consists of 13 members appointed by the President from the public, a majority of which are individuals with disabilities, and the heads of 12 federal agencies or their designees whose positions are Executive Level IV or above. The federal agencies are: The Departments of Commerce, Defense, Education, Health and Human Services, Housing and Urban Development, Interior, Justice, Labor, Transportation, and Veterans Affairs; General Services Administration; and United States Postal Service.

1. Executive Summary

Legal Authority and Purpose

We are required by the Americans with Disabilities Act (ADA) and the Rehabilitation Act to issue guidelines for the accessibility standards adopted by the U.S. Department of Justice (DOJ) for the design, construction, and alteration of facilities (other than certain transportation facilities) by entities subject to the ADA.² We are also required by the Rehabilitation Act to issue guidelines for the accessibility standards adopted by the U.S. Department of Housing and Urban Development (HUD) for the design, construction, and alteration of residential facilities by entities subject to the Architectural Barriers Act (ABA).³ Our current guidelines, the ADA and ABA Accessibility Guidelines, were issued in 2004.⁴ This final rule amends the ADA and ABA Accessibility Guidelines to specifically address emergency transportable housing units provided to disaster survivors by entities subject to the ADA or ABA. Compliance is not required by entities subject to the ADA until DOJ updates its accessibility standards to be consistent with the final rule. Compliance is not required by entities subject to the ABA until HUD updates its accessibility standards to be consistent with the final rule.

² 29 U.S.C. 792(b)(3) and 42 U.S.C. 12204.

³ 29 U.S.C. 792(b)(3).

⁴ 36 CFR part 1191.

Summary of Major Provisions

The final rule applies to entities subject to the ADA or ABA that provide emergency transportable housing units to disaster survivors. Emergency transportable housing units are prefabricated so they can be deployed rapidly in response to disasters. They are transported on a single transport vehicle over roadways, which results in size and space limitations. They provide temporary housing for persons whose homes have been destroyed or damaged by a disaster until they find suitable permanent housing.

Where group sites are developed for emergency transportable housing units, the final rule requires at least 10 percent of the unit pads at each group site to be designed and constructed to accept the installation of units with mobility features for disaster survivors who have mobility disabilities, and at least 5 percent of the total number of units installed at each group site to provide mobility features. Where emergency transportable housing units are installed on private sites provided by the occupant of the unit, existing commercial sites, or military installations, the final rule requires entities to provide units with mobility features as determined by a needs assessment conducted by the entity providing the units.

The final rule requires emergency transportable housing units with mobility features to comply with the technical requirements for residential dwelling units with mobility features. The final rule adds new technical requirements for floor surfaces, bedrooms, and weather alert systems in emergency transportable housing units with mobility features. The final rule also requires a water spray unit at kitchen sinks and a seat in roll-in type and transfer type shower compartments in emergency transportable housing units with mobility features. The final rule does not permit the use of platform lifts at the primary entrance to emergency transportable housing units with mobility features. The final rule revises existing exceptions and adds new exceptions relating to operable parts, ramps, grab bars, clear floor space at lavatories and kitchen sinks, and kitchen work surfaces in emergency transportable housing units with mobility features.

The final rule requires entities to provide emergency transportable housing units with communication features for disaster survivors who are deaf or have a hearing loss as determined by a needs assessment conducted by the entity providing the emergency transportable housing units, regardless of the type of site where the units are installed. The final rule requires emergency transportable housing units with communication features to provide combination smoke alarms and visible notification appliances complying with NFPA 72 National Fire Alarm Code. Where weather alert systems are provided in emergency transportable housing units, the final rule requires weather alert systems in units with communication features to provide audible and visible output.

Summary of Costs and Benefits

The Federal Emergency Management Agency (FEMA) is the only entity we have identified that has recently provided emergency transportable housing units to disaster survivors. FEMA is subject to the ABA. We estimated the additional costs for FEMA to provide emergency transportable housing units that comply with the final rule compared to units complying with the Uniform Federal Accessibility Standards (UFAS). UFAS is the accessibility standard adopted by HUD for residential facilities covered by the ABA. We estimated the additional costs under three scenarios. The scenarios do not represent actual costs that FEMA will incur each year since the number of UFAS compliant units deployed by FEMA varies from year to year. The first scenario is based on the average number of UFAS compliant units deployed per year by FEMA in response to major disasters and emergencies declared by the President during the period from calendar year 2008 to 2013, which were 165 UFAS compliant units. Under the first scenario, we estimated the additional costs to range from $28,425 to $104,775. The second scenario is based on FEMA's current baseline target inventory of 298 UFAS compliant units. Under the second scenario, we estimated the additional costs to range from $51,480 to $189,230. The third scenario is based on the approximately 145,000 emergency transportable housing units that FEMA deployed in response Hurricanes Katrina and Rita. Under the third scenario, we estimated the additional costs to range from $2.5 million to $18.4 million depending on whether 10, 15, or 20 percent of the units are UFAS compliant. The additional costs estimated under the second and third scenarios may be incurred over more than one year.

The final rule would benefit disaster survivors with disabilities who need temporary housing. The benefits are difficult to quantify, but include important national values recognized in Executive Order 13563 such as equity, human dignity, and fairness.

2. Statutory and Regulatory Background

The ADA prohibits discrimination on the basis of disability.⁵ The ADA requires facilities constructed or altered by state and local governments, and public accommodations and commercial facilities constructed or altered by private entities to be readily accessible to and usable by individuals with disabilities. DOJ is required to adopt accessibility standards for the design, construction, and alteration of facilities (other than certain transportation facilities) by entities subject to the ADA.⁶

⁵ 42 U.S.C. 12101 et seq.

⁶ 42 U.S.C. 12134 and 12186. The U.S. Department of Transportation is required to adopt accessibility standards for the design, construction, and alteration of facilities used to provide designated public transportation, commuter rail transportation, and intercity rail transportation. 42 U.S.C. 12149, 12163, and 12164.

The ABA requires facilities constructed or altered with federal funds and facilities leased by federal agencies to be readily accessible to and usable by individuals with disabilities.⁷ HUD is required to adopt accessibility standards for the design, construction, and alteration of residential facilities by entities subject to the ABA.⁸

⁷ 42 U.S.C. 4151 et seq.

⁸ 42 U.S.C. 4153. The Department of Defense and United States Postal Service are required to adopt accessibility standards for their respective facilities, and the General Services Administration is required to adopt accessibility standards for all other facilities covered by the ABA. 42 U.S.C. 4142, 4154, and 4154a.

We are required by the ADA and the Rehabilitation Act to issue guidelines for the accessibility standards adopted by DOJ for the design, construction, and alteration of facilities (other than certain transportation facilities) by entities subject to the ADA.⁹ We are also required by the Rehabilitation Act to issue guidelines for the accessibility standards adopted by HUD for the design, construction, and alteration of residential facilities by entities subject to the ABA.¹⁰ Our current guidelines, the ADA and ABA Accessibility Guidelines, were issued in 2004.

⁹ 29 U.S.C. 792(b)(3) and 42 U.S.C. 12204.

¹⁰ 29 U.S.C. 792(b)(3).

DOJ updated its accessibility standards for the design, construction, and alteration of facilities (other than certain transportation facilities) by entities subject to the ADA in 2010. The DOJ 2010 standards reference the 2004 ADA and ABA Accessibility Guidelines and include additional requirements.¹¹ HUD adopted UFAS for the design, construction, and alteration of residential facilities by entities subject to the ABA in 1984.¹² HUD has not yet updated its standards for residential facilities to be consistent with the ADA and ABA Accessibility Guidelines.

¹¹ 28 CFR 35.104 and 36.104 (definitions of 2004 ADAAG and 2010 Standards).

¹² 24 CFR 40.4.

3. Federal Emergency Management Agency (FEMA)

The final rule applies to entities subject to the ADA or ABA that provide emergency transportable housing units to disaster survivors. FEMA is the only entity we have identified that has recently provided emergency transportable housing units to disaster survivors. FEMA is subject to the ABA.

The Robert T. Stafford Disaster Relief and Emergency Assistance Act (Stafford Act) authorizes FEMA to provide various types of assistance when a major disaster or emergency is declared by the President.¹³ When disaster survivors are displaced from their pre-disaster primary residences as a result of damage caused by a major disaster or emergency, FEMA may provide them financial assistance to rent alternative housing.¹⁴ When there is an insufficient supply of alternative housing, FEMA may provide direct assistance by purchasing or leasing emergency transportable housing units for disaster survivors.¹⁵ FEMA may install the emergency transportable housing units on private sites provided for free by the occupant of the unit; existing commercial sites such as manufactured home parks; or group sites developed specifically for the units.¹⁶ FEMA develops group sites on property provided by state or local governments or property leased by FEMA only when private sites and existing commercial sites are unable to accommodate the need for emergency transportable housing units.¹⁷

¹³ 42 U.S.C. 5121 et seq.

¹⁴ 42 U.S.C. 5174(b) and (c)(1)(A), and 5192(a)(6).

¹⁵ 42 U.S.C. 5174(c)(1)(B) and 5192(a)(6).

¹⁶ The Stafford Act requires the sites to be complete with utilities. 42 U.S.C. 5174(d)(1)(a)(i). FEMA may provide federal assistance for the installation or repairs of utilities at private sites and commercial sites when FEMA determines that it will provide more cost effective, timely, and suitable temporary housing than other types of resources. 44 CFR 206.111 and 117(b)(1)(ii)(E).

¹⁷ FEMA, National Disaster Housing Strategy, January 16, 2009, Annex 4: Disaster Housing Community Site Operations at: http://www.fema.gov/national-disaster-housing-strategy-resource-center.

Emergency transportable housing units provided by FEMA are currently required to comply with UFAS, the accessibility standard adopted by HUD for residential facilities covered by the ABA. UFAS requires 5 percent of the total number of federally owned one and two family dwelling units to comply with the applicable technical requirements.¹⁸ When HUD eventually updates its standards for residential facilities covered by the ABA to be consistent with the ADA and ABA Accessibility Guidelines, emergency transportable housing units provided by FEMA will be required to comply with the updated HUD standards.

¹⁸ UFAS 4.1.4(11)(c).

When disaster survivors apply for assistance from FEMA, individuals with disabilities are identified and their housing needs are assessed.¹⁹ FEMA maintains a baseline target inventory of emergency transportable housing units ready to deploy in response to major disasters and emergencies based on historical usage, lead time to produce additional units, and installation capacity. FEMA reassesses the baseline at the beginning of each hurricane season and may readjust it based on operational needs, lessons learned, and on-going analysis. FEMA's current baseline target inventory is 2,000 units and 298 of the units (approximately 15 percent of the units) are targeted as UFAS compliant.²⁰ The actual number of emergency transportable housing units in the inventory varies as FEMA deploys the units to affected areas and contracts for the production of additional units as needed. Where group sites are developed, FEMA policy specifies that at least 15 percent of the unit pads be designed and constructed to accept the installation of UFAS compliant units.²¹ Unit pads that accept the installation of UFAS compliant units include additional space to install an entry ramp to the unit and to provide an accessible parking space for the unit.

¹⁹ FEMA, Recovery Policy (Interim) 9452.1, Temporary Housing Units for Eligible Disaster Victims with a Disability, October 13, 2006 at: http://www.fema.gov/media-library-data/20130726-1819-25045-5130/temporary_housing_units_for_eligible_disaster_victims_with_a_disability__9452.1_.pdf. See also FEMA, National Disaster Housing Strategy, January 16, 2009, Annex 3: Summary of Programs for Special Needs and Low-Income Populations, Including Provision of Housing Units for Individuals with Disabilities at: http://www.fema.gov/national-disaster-housing-strategy-resource-center.

²⁰ FEMA Manufactured Housing Unit Baseline Inventory, July 26, 2013 available in the supporting documents for the rulemaking at: http://www.regulations.gov/#!docketDetail;D=ATBCB-2012-0004.

²¹ FEMA, Recovery Policy (Interim) 9452.1, Temporary Housing Units for Eligible Disaster Victims with a Disability, October 13, 2006 at: http://www.fema.gov/media-library-data/20130726-1819-25045-5130/temporary_housing_units_for_eligible_disaster_victims_with_a_disability__9452.1_.pdf.

FEMA provided us data on the number of emergency transportable housing units, including UFAS compliant units, provided in response to 27 major disasters and emergencies declared by the President during the period from calendar year 2008 to 2013.²² During this period, FEMA provided a total of 9,324 emergency transportable housing units, of which 991 units or 10.6 percent of the total units were UFAS compliant. FEMA installed approximately 5,568 of the units, including about 569 UFAS compliant units, on private sites provided by occupants of the units. FEMA installed approximately 2,258 of the units, including about 277 UFAS compliant units, on existing commercial sites. FEMA installed approximately 1,395 of the units, including about 135 UFAS units, on group sites. Although 10.6 percent of the total number of emergency transportable housing units provided during this period was UFAS compliant, the percentage of UFAS compliant units varied widely from disaster to disaster by the type of site. FEMA informed us that some of the UFAS compliant units were provided to disaster survivors who do not have disabilities due to the lack of inventory of standard units. Thus, the actual need for UFAS compliant units may be less than the data indicate.

²² We included the data provided by FEMA in the supporting documents for the rulemaking at: http://www.regulations.gov/#!docketDetail;D=ATBCB-2012-0004. The data is organized by the calendar year in which the major disaster or emergency was declared. FEMA may have provided the emergency transportable housing units over more than one calendar year in response to a specific major disaster or emergency.

4. Rulemaking History

In response to issues raised about the accessibility of emergency transportable housing units provided by FEMA after Hurricanes Katrina and Rita, we convened an advisory committee in 2007 to make recommendations for amending the ADA and ABA Accessibility Guidelines to specifically address emergency transportable housing units. The advisory committee members represented disability advocacy organizations, manufacturers of emergency transportable housing units, standard setting organizations, and federal agencies (FEMA, HUD, and DOJ). The advisory committee submitted a report with recommendations to amend the ADA and ABA Accessibility Guidelines in 2008. We issued a proposed rule to amend the ADA and ABA Accessibility Guidelines based on the advisory committee's report in 2012.²³ The advisory committee report and proposed rule are available at: http://www.access-board.gov/guidelines-and-standards/buildings-and-sites/emergency-transportable-housing/background.

²³ 77 FR 36231 (June 18, 2012).

5. Comments on Proposed Rule

We received 44 comments on the proposed rule, including comments from 11 persons who testified at a public hearing on the proposed rule.²⁴ The comments are available at: http://www.regulations.gov/#!docketDetail;D=ATBCB-2012-0004. Most of the comments were submitted by disability advocacy organizations (17 comments) and individuals (16 comments). The manufactured housing industry submitted four comments and other interested persons submitted four comments. The comments generally supported the proposed rule, except for the scoping requirements for units with mobility features and units with communication features. Ten comments, including one comment that was supported by 16 organizations and over 100 individuals, recommended that units meet the needs of individuals with chemical and electrical sensitivities. We respond to these comments below.

²⁴ Some of the persons who testified at the public hearing also submitted written comments. Two of the comments were duplicates and one comment was a test.

A. Scoping Requirements for Units With Mobility Features

The ADA and ABA Accessibility Guidelines require at least 5 percent of the residential dwelling units in a facility to provide mobility features.²⁵ The advisory committee recommended alternate scoping requirements for emergency transportable housing units with mobility features. Where emergency transportable housing units are installed on private sites provided by the occupant of the unit, the advisory committee recommended that entities provide units with mobility features to ensure non-discrimination on the basis of disability as prescribed by regulations implementing section 504 of the Rehabilitation Act, the Stafford Act, and the ADA.²⁶ Where emergency transportable housing units are installed on group sites, the advisory committee recommended that 10 percent of the units should provide mobility features. The advisory committee based this recommendation on the number of UFAS compliant units that FEMA had in its inventory at the time the committee issued its report.²⁷ The advisory committee did not specifically address emergency transportable housing units installed on existing commercial sites.

²⁵ Where a facility has 15 or fewer residential dwelling units, the scoping requirement applies to the total number of residential dwelling units that are constructed under a single contract, or are developed as a whole, whether or not located on a common site. See sections 233.3.1, F233.3.1, and F233.4.1 of the ADA and ABA Accessibility Guidelines.

²⁶ See 44 CFR part 16 for FEMA's regulations implementing section 504 of the Rehabilitation Act; 44 CFR part 206 for FEMA's regulations implementing the Stafford Act; and 28 CFR parts 35 and 36 for DOJ's regulations implementing Titles II and III of the ADA.

²⁷ Advisory Committee Final Report, Consensus Recommendations, Item 5: Scoping at: http://www.access-board.gov/guidelines-and-standards/buildings-and-sites/emergency-transportable-housing/background. The advisory committee noted that FEMA had an inventory of approximately 4,000 emergency transportable housing units and 10 percent of the units were UFAS compliant.

The proposed rule did not specify the number of emergency transportable housing units with mobility features to be provided because the number of disaster survivors who need such units may vary from disaster to disaster by the type of site on which the units are installed. Instead, the proposed rule adopted the approach recommended by the advisory committee for private sites to any type of site, and would have required entities to provide emergency transportable housing units with mobility features in accordance with regulations implementing section 504 of the Rehabilitation Act, the Stafford Act, and the ADA. As explained in the preamble to the proposed rule, we intended entities to provide emergency transportable housing units with mobility features based on the assessed needs of the disaster survivors.²⁸

²⁸ 77 FR 36239 (June 18, 2012).

Some of the disability advocacy organizations and individuals who commented on the proposed rule recommended that 10 percent, 14 percent, or 15 percent of the total number of emergency transportable housing units installed on group sites should provide mobility features.

The final rule addresses the different types of sites on which emergency transportable housing units are installed. Where emergency transportable housing units are installed on private sites provided by the occupant of the units, the final rule requires entities to provide units with mobility features as determined by a needs assessment conducted by the entity providing the emergency transportable housing units.²⁹ This will ensure that disaster survivors with a disability who want a unit with mobility features to be installed on a private site that can accommodate the unit are provided such a unit.³⁰ Disaster survivors prefer to have emergency transportable housing units installed on the site of their pre-disaster primary residence where possible so they can remain in their communities and supervise the repair or reconstruction of their homes. Approximately 60 percent of the emergency transportable housing units provided by FEMA in response to major disasters and emergencies declared by the President between calendar years 2008 and 2013 were installed on private sites provided by the occupants of the units.

²⁹ See redesignated sections 233.3.1.2.1 and F233.4.1.2.1 of the ADA and ABA Accessibility Guidelines.

³⁰ FEMA requires a private site feasibility inspection to ensure that all necessary utilities are operational and that the unit can be installed within the space available.

Where group sites are developed for emergency transportable housing units, the final rule requires entities to design and construct at least 10 percent of the unit pads to accept the installation of units with mobility features and to be on an accessible route.³¹ We required a minimum number of unit pads at group sites to be designed and constructed to accept the installation of units with mobility features and to be on an accessible route because it is more cost effective to do so when the group sites are initially developed rather than altering the unit pads and circulation paths after the group sites are developed. The scoping requirement for unit pads at group sites is a minimum requirement and entities that develop group sites may exceed the minimum requirement. As noted earlier, FEMA policy specifies that at least 15 percent of the unit pads at group sites be designed and constructed to accept the installation of UFAS compliant units.

³¹ See redesignated sections 233.3.1.2.2.1 and F233.4.1.2.2.1 of the ADA and ABA Accessibility Guidelines.

The final rule also requires at least 5 percent of the total number of the emergency transportable housing units installed on group sites to provide mobility features. This is consistent with the current scoping requirement for residential facilities in the ADA and ABA Accessibility Guidelines. We did not require at least 10 percent of the total number of units installed on group sites to provide mobility features because the data provided by FEMA for group sites where emergency transportable housing units were installed in response to major disasters and emergencies declared by the President between calendar years 2008 and 2013 show that less than 10 percent of the total number of units installed on about half of the group sites were UFAS compliant.³² Requiring at least 10 percent of the total number of units installed on group sites to provide mobility features would limit FEMA's ability to provide units with mobility features at other types of sites based on the assessed needs of disaster survivors with disabilities. If more units with mobility features are needed at private sites and existing commercial sites than at group sites, requiring at least 10 percent of the total number of units installed on group sites to provide mobility features could result in fewer units with mobility features being available to install at the private sites and existing commercial sites.

³² We included the data provided by FEMA on group sites in the supporting documents for the rulemaking at: http://www.regulations.gov/#!docketDetail;D=ATBCB-2012-0004. FEMA installed emergency transportable housing units on 17 group sites during the relevant period. Data were not available on the number and type of units installed at 8 of the group sites.

Where federal agencies lease space at existing commercial sites such as manufactured home parks to install emergency transportable housing units, the final rule requires entities to provide units with mobility features as determined by a needs assessment conducted by the entity providing the emergency transportable housing units.³³ Data provided by FEMA on the number of emergency transportable housing units installed at existing commercial sites in response to major disasters and emergencies declared by the President between calendar years 2008 and 2013 show that the percent of UFAS compliant units installed at the sites varied widely from less than 5 percent to more than 50 percent. We did not specify the number of units with mobility features to be installed at existing commercial sites because the data vary so widely. The number of units with mobility features that should be installed at existing commercial sites is best determined by a needs assessment conducted by the entity providing the units.

³³ See new section F202.6.5.9 of the ADA and ABA Accessibility Guidelines.

Where emergency transportable housing units are installed on military installations, the final rule requires units with mobility features to be provided as determined by a needs assessment conducted by the entity providing the units.³⁴ We did not require a minimum number of units with mobility features to be installed on military installations because there are no data available on emergency transportable housing units provided on military installations.

³⁴ See redesignated section F233.3.2.2 of the ADA and ABA Accessibility Guidelines.

B. Scoping Requirements for Units With Communication Features

The ADA and ABA Accessibility Guidelines require at least 2 percent of the residential dwelling units in a facility to provide communication features.³⁵ The advisory committee did not recommend alternate scoping requirements for emergency transportable housing units with communication features. The proposed rule did not specify the number of emergency transportable housing units with communication features to be provided because the number of disaster survivors who need such units may vary from disaster to disaster by the type of site on which the units are installed. Instead, the proposed rule would have required entities to provide emergency transportable housing units with communication features in accordance with the regulations implementing section 504 of the Rehabilitation Act, the Stafford Act, and the ADA, similar to what we proposed for emergency transportable housing units with mobility features.

³⁵ Where a facility has 15 or fewer residential dwelling units, the scoping requirement applies to the total number of residential dwelling units that are constructed under a single contract, or are developed as a whole, whether or not located on a common site. See sections 233.3.1, F233.3.1, and F233.4.1 of the ADA and ABA Accessibility Guidelines.

Some of the disability advocacy organizations and individuals who commented on the proposed rule recommended that 2 percent of the total number of emergency transportable housing units installed on group sites should provide communication features.

The final rule requires entities to provide emergency transportable housing units with communication features as determined by a needs assessment conducted by the entity providing the units because the number of disaster survivors who need units with communication features may vary from disaster to disaster by the type of site on which the units are installed.³⁶ All the emergency transportable housing units provided by FEMA include the communication features required by the final rule, including combination smoke alarms and visual notification appliances complying with NFPA 72 National Fire Alarm Code and weather alert systems with audible and visible output.

³⁶ See new section F202.6.5.10 and redesignated sections 233.3.2.2, F233.3.2.2, and F233.4.2.2 of the ADA and ABA Accessibility Guidelines.

C. Needs of Individuals With Chemical and Electrical Sensitivities

The advisory committee included a member of an organization knowledgeable about the needs of individuals with chemical and electrical sensitivities. The advisory committee discussed issues related to the indoor environmental quality of emergency transportable housing units, but the committee concluded that it did not have the expertise to address the issues. In the proposed rule, we noted that FEMA currently requires emergency transportable housing units to comply with HUD's Manufactured Home Construction and Safety Standards, which include formaldehyde emission levels for plywood and particle board materials installed in the homes.³⁷ The Environmental Protection Agency also has initiated rulemaking to address formaldehyde emissions from composite wood products.³⁸

³⁷ 24 CFR 3280.308.

³⁸ 78 FR 34820 (June 10, 2013).

Comments submitted on behalf of individuals with chemical and electrical sensitivities noted that they experience disabling reactions to very low level exposures to formaldehyde and other volatile organic compounds. They recommended that FEMA provide emergency transportable housing units constructed of porcelain or comparable materials for individuals with chemical sensitivities. We have shared the comments with FEMA to further consider how to meet the needs of these individuals.

6. Discussion of Final Rule

The ADA and ABA Accessibility Guidelines are codified as appendices to 36 CFR part 1191. Appendix A contains the Table of Contents. Appendix B contains the scoping requirements for facilities covered by the ADA. Appendix C contains the scoping requirements for facilities covered by the ABA. The scoping requirements in Appendix C are preceded by the letter “F” to distinguish them from the scoping requirements in Appendix B. Appendix D contains the technical requirements for facilities covered by the ADA and the ABA. The amendments to the ADA and ABA Accessibility Guidelines made by the final rule are discussed below under the applicable appendices.³⁹

³⁹ The revisions made by the final rule to the guidelines do not change the requirements in the DOJ 2010 Standards until DOJ adopts the revisions. The sections of the DOJ 2010 Standards relating to residential facilities are not revised or renumbered. See 36 CFR 1191.1, Note 2 to paragraph (a), as amended in 78 FR 59493 (September 26, 2013).

The final rule reorganizes and renumbers the scoping requirements for residential facilities in section 233 in Appendix B and section F233 in Appendix C, and the technical requirements for residential dwelling units in section 809 in Appendix D. The final rule edits other sections of the guidelines that reference the scoping requirements for residential facilities in sections 233 and F233 and the technical requirements for residential dwelling units in section 809 to conform to the renumbered requirements in those sections. The final rule also edits the words “residential facilities” in several sections of the guidelines to read “facilities with residential dwelling units.” All references to the sections of the guidelines in this section of the preamble are to the renumbered sections.

There are no revisions to the Table of Contents in Appendix A.

Appendix B to 36 CFR Part 1191—Americans With Disabilities Act: Scoping; Appendix C to 36 CFR Part 1191—Architectural Barriers Act: Scoping

Since most of the scoping requirements in Appendices B and C are the same, the revisions made by the final rule to the scoping requirements are discussed together.

105.2.5 NFPA; F105.2.5 NFPA

These sections incorporate by reference the NFPA 72 National Fire Alarm Code (1999 and 2002 Editions). The final rule edits the references to the sections of the guidelines that require compliance with the NFPA 72 National Fire Alarm Code to conform to the renumbered technical requirements for residential dwelling units in section 809.

106.5 Defined Terms; F106.5 Defined Terms

The final rule adds a definition to these sections for the term “emergency transportable housing unit.” The term is defined to mean a single or multiple section prefabricated structure that is transportable on a single transport vehicle and that can be set-up and installed on a temporary site in response to an emergency need for temporary housing. The definition lists travel trailers, park models, manufactured housing, and other factory built housing among the structures covered by the definition. Modular homes that are transportable on multiple vehicles and are joined together on a site are not covered by the definition. The definition considers emergency transportable housing units as a type of residential dwelling unit for the purposes of the guidelines.

F202.6.5.8 Residential Dwelling Units; F202.6.5.9 Emergency Transportable Housing Units With Mobility Features; F202.6.5.10 Emergency Transportable Housing Units With Communication Features

The ABA applies to facilities leased by federal agencies. In Appendix C, the scoping requirements for facilities leased by federal agencies are contained in section F202.6. There are no scoping requirements for leased facilities in Appendix B.⁴⁰ The final rule revises section F202.6.5.8 to require residential dwelling units, other than emergency transportable housing units, leased by federal agencies to comply with the scoping requirements in F233 for residential facilities. The final rule adds new sections F202.6.5.9 and F206.5.9.10 to address emergency transportable housing units installed on existing commercial sites leased by federal agencies. A commercial site is a privately-owned facility containing factory-built housing that is customarily leased for a fee and that is fully equipped to accommodate emergency transportable housing units. Where emergency transportable housing units are installed on existing commercial sites, sections F202.6.5.9 and F206.5.9.10 require entities to provide emergency transportable housing units with mobility features and emergency transportable housing units with communication features as determined by a needs assessment conducted by the entity providing the emergency transportable housing units.

⁴⁰ Public entities subject to Title II of the ADA are required to comply with program accessibility requirements in existing facilities. See 28 CFR 35.150. Private entities subject to Title III of the ADA are required to comply with barrier removal requirements in existing facilities. See 28 CFR 36.304.

203.8 Residential Facilities; F203.9 Residential Facilities

These sections contain a general exception for facilities with residential dwelling units. The exception does not require common use areas that do not serve residential dwelling units required to provide mobility features to comply with the scoping requirements or to be on an accessible route. The final rule revises the exception to also apply to common use areas that do not serve emergency transportable housing unit pads designed and constructed to accept the installation of units with mobility features.

205 Operable Parts; F205 Operable Parts

These sections require operable parts located on accessible elements and accessible routes and in accessible rooms and spaces to comply with the technical requirements for operable parts, including clear floor space, reach ranges, and operation. The sections contain several exceptions. As discussed below, the final rule revises Exception 3 and adds Exceptions 9, 10, and 11 to the sections.

Exception 3 (Electrical Outlets in Kitchen)

Where two or more electrical outlets are provided in a kitchen above a length of counter top that is uninterrupted by a sink or appliance, Exception 3 does not require one of the outlets to comply with the technical requirements for operable parts. Kitchens in emergency transportable housing units typically have fewer electrical outlets than kitchens in other types of residential dwelling units. The final rule revises Exception 3 so that it does not apply to emergency transportable housing units required to provide mobility features.

Exception 9 (Residential Dwelling Units and Transient Lodging Guest Rooms Not Required To Provide Mobility Features)

The final rule adds Exception 9 for residential dwelling units and transient lodging guest rooms that are not required to provide mobility features. Exception 9 clarifies that operable parts in these units are not required to comply with the technical requirements for operable parts.

Exception 10 (Operable Parts Beneath Emergency Transportable Housing Units)

The final rule adds Exception 10 for operable parts located beneath the body of emergency transportable housing units required to provide mobility features. These operable parts are typically used by service personnel for maintenance purposes and are not intended to be used by the occupants of the emergency transportable housing units. Exception 10 does not require these operable parts to comply with the technical requirements for operable parts.

Exception 11 (Water Shut-Off Valves)

The final rule adds Exception 11 for water shut-off valves. Water shut-off valves are typically located beneath sinks and toilets, and do not meet the technical requirements for clear floor space and reach ranges. The proposed rule would not have required water-shut off valves in emergency transportable housing units with mobility features to comply with the technical requirements for operable parts where a single shut-off valve complying with the technical requirements for clear floor space and reach ranges is provided for the entire unit. The final rule does not require water shut-off valves in any type of occupancy to comply with the technical requirements for operable parts. Since we do not know whether it is feasible to provide a single water shut-off valve in all other occupancies, the final rule does not require a single water shut-off valve to be provided in order to use Exception 11.

206.2.3 Multi-Story Buildings (Exception 4); F206.2.3 Multi-Story Buildings (Exception 4)

The final rule edits the references in Exception 4 to these sections to the technical requirements for residential dwelling units with mobility features to conform to the renumbered technical requirements in section 809.

206.4.6 Residential Dwelling Unit Primary Entrance; F206.4.6 Residential Dwelling Unit Primary Entrance

The final rule edits these sections to reference the technical requirements for residential dwelling units with mobility features.

206.5.4 Residential Dwelling Units; F206.5.4 Residential Dwelling Units

The final rule edits the references in these sections to the technical requirements for residential dwelling units with mobility features to conform to the renumbered technical requirements in section 809.

206.7 Platform Lifts; F206.7 Platform Lifts

These sections specify where platform lifts are permitted as a component of an accessible route in new construction. The final rule does not permit the use of platform lifts at the primary entrance to an emergency transportable housing unit required to provide mobility features. The floor level of emergency transportable housing units is elevated above the ground. Although safety standards require manufactured housing to provide a secondary means of escape, the secondary means of escape usually is not accessible to occupants with mobility disabilities. In emergency transportable housing units required to provide mobility features, the primary entrance to the unit is the only accessible means of escape for occupants with mobility disabilities to evacuate the unit in an emergency. Platform lifts are not permitted at the primary entrance to emergency transportable housing units required to provide mobility features because the time needed to operate a platform lift and, if necessary, to recall it to the level of exit discharge can result in unnecessary delays for occupants with mobility disabilities evacuating the unit in an emergency.

206.7.6 Guest Rooms and Residential Dwelling Units; F206.7.6 Guest Rooms and Residential Dwelling Units

The final rule edits the references in these sections to the technical requirements for residential dwelling units with mobility features to conform to the renumbered technical requirements in section 809.

208.2.3 Residential Facilities; F208.2.3 Residential Facilities

The final rule edits the words “residential facilities” in these sections to read “facilities with residential dwelling units.”

208.2.3.1 Parking for Residents; F208.2.3.1 Parking for Residents

The final rule edits the references in these sections to the technical requirements for residential dwelling units with mobility features to conform to the renumbered technical requirements in section 809.

208.3.2 Residential Facilities; F208.3.2 Residential Facilities

The final rule edits the references in these sections to the technical requirements for residential dwelling units with mobility features to conform to the renumbered technical requirements in section 809.

215.5 Residential Dwelling Units; F215.5 Residential Dwelling Units

The final rule edits the references in these sections to the technical requirements for residential dwelling units with communication features to conform to the renumbered technical requirements in section 809.

228.2 Mail Boxes; F228.2 Mail Boxes

The final rule edits the references in these sections to the technical requirements for residential dwelling units with mobility features to conform to the renumbered technical requirements in section 809.

233 Residential Facilities; F233 Residential Facilities

The final rule reorganizes and renumbers the provisions in these sections as shown below in order to add scoping requirements for emergency transportable housing units required to provide mobility features and for emergency transportable housing units required to provide communication features.⁴¹ The final rule also edits the references to the technical requirements for residential dwelling units with mobility features in the provisions to conform to the renumbered technical requirements in section 809.

⁴¹ See footnote 39.

Old sections | New sections
ADA Scoping Requirements
233 Residential Facilities | 233 Residential Facilities
233.1 General | 233.1 General
233.2 Residential Dwelling Units Provided by Entities Subject to HUD Section 504 Regulations | 233.2 Residential Dwelling Units Provided by Entities Subject to HUD Section 504 Regulations
233.3 Residential Dwelling Units Provided by Entities Not Subject to HUD Section 504 Regulations | 233.3 Residential Dwelling Units Provided by Entities Not Subject to HUD Section 504 Regulations
233.3.1 Minimum Number: New Construction | 233.3.1 Residential Dwelling Units with Mobility Features
233.3.1.1 Residential Dwelling Units with Mobility Features | 233.3.1.1 Facilities Other Than Those Containing Emergency Transportable Housing Units
| 233.3.1.2 Facilities Containing Emergency Transportable Housing Units
| 233.3.1.2.1 Private Sites Provided by Occupant of Unit
| 233.3.1.2.2 Group Sites
| 233.3.1.2.2.1 Unit Pads
| 233.3.1.2.2.2 Units Installed
233.3.1.2 Residential Dwelling Units with Communication Features | 233.3.2 Residential Dwelling Units with Communication Features
| 233.3.2.1 Facilities Other Than Those Containing Emergency Transportable Housing Units
| 233.3.2.2 Facilities Containing Emergency Transportable Housing Units
233.3.2 Residential Dwelling Units for Sale | 233.3.3 Residential Dwelling Units for Sale
233.3.3 Additions | 233.3.4 Additions
233.3.4 Alterations | 233.3.5 Alterations
233.3.4.1 Alterations to Vacated Buildings | 233.3.5.1 Alterations to Vacated Buildings
233.3.4.2 Alterations to Individual Residential Dwelling Units | 233.3.5.2 Alterations to Individual Residential Dwelling Units
233.3.5 Dispersion | 233.3.6 Dispersion
ABA Scoping Requirements
F233 Residential Facilities | F233 Residential Facilities
F233.1 General | F233.1 General
F233.2 Residential Dwelling Units Provided by HUD or Through Grant or Loan Programs Administered by HUD | F233.2 Residential Dwelling Units Provided by HUD or Through Grant or Loan Programs Administered by HUD
F233.3 Residential Dwelling Units Provided on Military Installations | F233.3 Residential Dwelling Units Provided on Military Installations
F233.3.1 Minimum Number: New Construction | F233.3.1 Residential Dwelling Units with Mobility Features
F233.3.1.1 Residential Dwelling Units with Mobility Features | F233.3.1.1 Facilities Other Than Those Containing Emergency Transportable Housing Units
| F233.3.1.2 Facilities Containing Emergency Transportable Housing Units
F233.3.1.2 Residential Dwelling Units with Communication Features | F233.3.2 Residential Dwelling Units with Communication Features
| F233.3.2.1 Facilities Other Than Those Containing Emergency Transportable Housing Units
| F233.3.2.2 Facilities Containing Emergency Transportable Housing Units
F233.3.2 Additions | F233.3.3 Additions
F233.3.3 Alterations | F233.3.4 Alterations
F233.3.3.1 Alterations to Vacated Buildings | F233.3.4.1 Alterations to Vacated Buildings
F233.3.3.2 Alterations to Individual Residential Dwelling Units | F233.3.4.2 Alterations to Individual Residential Dwelling Units
F233.3.4 Dispersion | F233.3.5 Dispersion
F233.4 Residential Dwelling Units Provided by Other Federal Agencies or Through Grant or Loan Programs Administered by Other Federal Agencies | F233.4 Residential Dwelling Units Provided by Other Federal Agencies or Through Grant or Loan Programs Administered by Other Federal Agencies
F233.4.1 Minimum Number: New Construction | F233.4.1 Residential Dwelling Units with Mobility Features
F233.4.1.1 Residential Dwelling Units with Mobility Features | F233.4.1.1 Facilities Other Than Those Containing Emergency Transportable Housing Units
| F233.4.1.2 Facilities Containing Emergency Transportable Housing Units
| F233.4.1.2.1 Private Sites Provided by Occupant of Unit
| F233.4.1.2.2 Group Sites
| F233.4.1.2.2.1 Unit Pads
| F233.4.1.2.2.2 Units Installed
F233.4.1.2 Residential Dwelling Units with Communication Features | F233.4.2 Residential Dwelling Units with Communication Features
| F233.4.2.1 Facilities Other Than Those Containing Emergency Transportable Housing Units
| F233.4.2.2 Facilities Containing Emergency Transportable Housing Units
F233.4.2 Residential Dwelling Units for Sale | F233.4.3 Residential Dwelling Units for Sale
F233.4.3 Additions | F233.4.4 Additions
F233.4.4 Alterations | F233.4.5 Alterations
F233.4.4.1 Alterations to Vacated Buildings | F233.4.5.1 Alterations to Vacated Buildings
F233.4.4.2 Alterations to Individual Residential Dwelling Units | F233.4.5.2 Alterations to Individual Residential Dwelling Units
F233.4.5 Dispersion | F233.4.6 Dispersion

233.3.1 Residential Dwelling Units With Mobility Features; F233.3.1 Residential Dwelling Units With Mobility Features; F233.4.1 Residential Dwelling Units With Mobility Features

These sections contain the scoping requirements for residential dwelling units with mobility features.⁴² The scoping requirements for facilities that do not contain emergency transportable housing units are in sections 233.3.1.1, F233.3.1.1, and F233.4.1.1, and they are not changed.

⁴² The scoping requirements in section 233.3.1 apply to residential dwelling units provided by non-federal entities who are not subject to regulations issued by HUD under section 504 of the Rehabilitation Act. The scoping requirements in section F233.3.1 apply to residential dwelling units provided on military installations. The scoping requirements in section F233.4.1 apply to residential dwelling units provided by federal agencies (other than HUD) or by non-federal entities through a grant or loan program administered by a federal agency (other than HUD).

233.3.1.2 Facilities Containing Emergency Transportable Housing Units; F233.4.1.2 Facilities Containing Emergency Transportable Housing Units

These sections contain the scoping requirements for emergency transportable housing units with mobility features installed at facilities other than military installations. Where emergency transportable housing units are installed on private sites provided by the occupant of the unit, the final rule requires entities to provide units with mobility features on the private sites as determined by a needs assessment conducted by the entity providing the units. Where group sites are developed for emergency transportable housing units, the final rule requires at least 10 percent of the unit pads to be designed and constructed to accept the installation of units with mobility features and to be on an accessible route, and at least 5 percent of the total number of units installed on the group sites to provide mobility features.

F233.3.1.2 Facilities Containing Emergency Transportable Housing Units

This section contains the scoping requirement for emergency transportable housing units with mobility features installed on military installations. The final rule requires entities to provide emergency transportable housing units with mobility features on military installations as determined by a needs assessment conducted by the entity providing the units.

233.3.2 Residential Dwelling Units With Communication Features; F233.3.2 Residential Dwelling Units With Communication Features; F233.4.2 Residential Dwelling Units With Communication Features

These sections contain the scoping requirements for residential dwelling units with communication features.⁴³ The scoping requirements for facilities that do not contain emergency transportable housing units are in sections 233.3.2.1, F233.3.2.1, and F233.4.2.1, and they are not changed.

⁴³ The scoping requirements in section 233.3.2 apply to residential dwelling units provided by non-federal entities who are not subject to regulations issued by HUD under section 504 of the Rehabilitation Act. The scoping requirements in section F233.3.2 apply to residential dwelling units provided on military installations. The scoping requirements in section F233.4.2 apply to residential dwelling units provided by federal agencies (other than HUD) or by non-federal entities through a grant or loan program administered by a federal agency (other than HUD).

233.3.1.2 Facilities Containing Emergency Transportable Housing Units; F233.3.1.2 Facilities Containing Emergency Transportable Housing Units; F233.4.1.2 Facilities Containing Emergency Transportable Housing Units

These sections contain the scoping requirements for emergency transportable housing units with communication features. The final rule requires entities to provide emergency transportable housing units with communication features as determined by a needs assessment conducted by the entity providing the units.

233.3.6 Dispersion (Exception 2); F233.3.5 Dispersion (Exception 2); F233.4.6 Dispersion (Exception 2)

The final rule adds Exception 2 to these sections. Exception 2 does not require emergency transportable housing units required to provide mobility features to be dispersed among the various types of units in the facility or to provide choices of units comparable to those available to others since disaster survivors are provided units based on their assessed needs. Exception 2 does not exempt emergency transportable housing units required to provide mobility features from the requirement that the units be integrated with those available to other residents so that disaster survivors with disabilities are not segregated at group sites.

Appendix D to 36 CFR Part 1191—Technical

405.2 Slope (Exception 2); 405.6 Rise (Exception)

These sections contain the technical requirements for the running slope and rise of ramp runs. The running slope of ramp runs must not be steeper than 1:12 and any ramp rise must be 30 inches maximum. The floor level of emergency transportable housing units is typically elevated 36 inches above the ground. To comply with the technical requirements, entry ramps installed at emergency transportable housing units with mobility features must have at least two ramp runs and an intermediate landing between the ramp runs. The entry ramps occupy 158 to 180 square feet depending on the landing configuration.⁴⁴ The final rule adds exceptions to the technical requirements that permit a single ramp run with a slope not steeper than 1:10 and 36 inches maximum rise where existing physical or site constraints would prohibit the installation of an entry ramp complying with the slope and rise requirements at emergency transportable housing units installed on private sites provided by the occupant of the unit. The exceptions reduce the area occupied by the entry ramps to 120 square feet. The exceptions may enable disaster survivors with disabilities who need emergency transportable housing units with mobility features to have the units installed on their private home sites where existing physical or site constraints may otherwise prohibit the installation of an entry ramp complying with the technical requirements at the unit. Many individuals with disabilities have difficulty using ramps with slopes steeper than 1:12 and may find entry ramps with a 1:10 slope not usable. Because individuals with disabilities have varying needs and capabilities, the concurrence of individuals with disabilities who will use the entry ramps should be obtained before using the exceptions.

⁴⁴ Where the ramp runs and landings are in a straight configuration, the landing is approximately 18 square feet. Where the ramp runs change direction at the landings, the landing is approximately 40 square feet.

409.1 General

The final rule edits the references in these sections to the technical requirements for residential dwelling units with mobility features to conform to the renumbered technical requirements in section 809.

604.5 Grab Bars (Exception 2)

Exception 2 to this section permits grab bars to not be installed at water closets in residential dwelling units required to provide mobility features provided that the walls are reinforced to support future installation of grab bars. The final rule revises Exception 2 so that it does not apply to emergency transportable housing units required to provide mobility features since it could result in delays in installing grab bars in the units.

606.2 Clear Floor Space (Exception 3)

This section requires clear floor space positioned for a forward approach and knee and toe clearance to be provided at lavatories and sinks. Exception 3 to the section permits readily removable cabinetry to be installed under lavatories and sinks in residential dwelling units required to provide mobility features provided that the finish floor extends under the cabinetry and the walls behind and surrounding the cabinetry are finished. The final rule revises Exception 3 so that it does not apply to emergency transportable housing units required to provide mobility features.

606.4 Faucets and Water Spray Units

The final rule revises this section to require a water spray unit to be provided at the kitchen sink in emergency transportable housing units required to provide mobility features so individuals with mobility disabilities can wash dishes without having to reach across the sink to control the water flow.

607.4 Grab Bars (Exception 2)

Exception 2 to this section permits grab bars to not be installed at bathtubs in residential dwelling units required to provide mobility features provided that the walls are reinforced to support future installation of grab bars. The final rule revises Exception 2 so that it does not apply to emergency transportable housing units required to provide mobility features since it could result in delays in installing grab bars in the units.

608.3 Grab Bars (Exception 2)

Exception 2 to this section permits grab bars to not be installed in shower compartments in residential dwelling units required to provide mobility features provided that the walls are reinforced to support future installation of grab bars. The final rule revises Exception 2 so that it does not apply to emergency transportable housing units required to provide mobility features since it could result in delays in installing grab bars in the units.

608.4 Seats (Exception)

This section requires a folding or non-folding seat to be provided in transfer type shower compartments. An exception to the section permits seats to not be installed in transfer type shower compartments in residential dwelling units required to provide mobility features provided that the walls are reinforced to support future installation of seats. The final rule revises the exception so that it does not apply to emergency transportable housing units required to provide mobility features since it could result in delays in installing seats in transfer type shower compartments in the units. The final rule also requires a folding seat to be provided in roll-in type showers provided in emergency transportable housing units required to provide mobility features.

804.3 Kitchen Work Surface (Exception)

This section requires at least one work surface to be provided at kitchen counters in residential dwelling units required to provide mobility features. The work surface must have a clear floor space positioned for a forward approach, and knee and toe clearance beneath the kitchen counter. The final rule adds an exception to the section for emergency transportable housing units in order to preserve storage space beneath kitchen counters in the units. The exception does not require work surfaces to be provided at kitchen counters where a table is provided within the kitchen; an electric outlet is provided within reach of the table; and all the kitchen countertops are 34 inches high maximum. The table must comply with the technical requirements for dining surfaces and work surfaces.

809 Residential Dwelling Units

The final rule reorganizes and renumbers the technical requirements for residential dwelling units in this section as shown below.⁴⁵

⁴⁵ See footnote 39.

Old sections | New sections
809 Residential Dwelling Units | 809 Residential Dwelling Units
809.1 General | 809.1 General
809.2 Accessible Routes | 809.2 Residential Dwelling Units with Mobility Features
809.2.1 Location | 809.2.1 Accessible Routes 809.2.1.1 Location 809.2.1.2 Floor Surfaces
809.2.2 Turning Space | 809.2.2 Turning Space
809.3 Kitchen | 809.2.3 Kitchen
809.4 Toilet Facilities and Bathing Facilities | 809.2.4 Toilet Facilities and Bathing Facilities
| 809.2.5 Bedrooms in Emergency Transportable Housing Units
| 809.2.5.1 Clear Floor Space
| 809.2.5.2 Furniture
| 809.2.5.3 Lighting Controls
| 809.2.6 Weather Alert Systems
809.5 Residential Dwelling Units with Communication Features | 809.3 Residential Dwelling Units with Communication Features 809.3.1 Alarms
809.5.1 Building Fire Alarm System 809.5.1.1 Alarm Appliances 809.5.1.2 Activation | 809.3.1.1 Building Fire Alarm System
809.5.2 Residential Dwelling Unit Smoke Alarms | 809.3.1.2 Residential Dwelling Unit Smoke Alarms
809.5.2.1 Activation 809.5.3 Interconnection 809.5.4 Prohibited Use | 809.3.1.3 Activation
809.5.5 Residential Dwelling Unit Primary Entrance | 809.3.2 Residential Dwelling Unit Primary Entrance
809.5.5.1 Notification | 809.3.2.1 Notification
809.5.5.2 Identification | 809.3.2.2 Identification
809.5.6 Site, Building, or Floor Entrance | 809.3.3 Site, Building, or Floor Entrance 809.3.4 Weather Alert Systems

809.2 Residential Dwelling Units With Mobility Features

As discussed below, the final rule adds technical requirements to this section for floor surfaces, bedrooms, and weather alert systems in emergency transportable housing units with mobility features.

809.2.1.2 Floor Surfaces

This section specifies that carpet not be provided on floor surfaces in emergency transportable housing units with mobility features.

809.2.5 Bedrooms in Emergency Transportable Housing Units

This section requires a clear floor space for individuals who use wheelchairs and other mobility aids to be provided on one side of a bed in bedrooms in emergency transportable housing units. The clear floor space must be positioned for a parallel approach to the side of the bed and must be on an accessible route. Where bedrooms are less than 70 square feet, the section specifies that the furniture supplied with the unit cannot overlap the accessible route, maneuvering clearances required at doors, and turning space since it is not possible to rearrange the furniture in such small spaces. The section also requires a means to control at least one source of lighting from the bed, such as bedside lamps, wall switches near the bed, or remote control devices that can be operated from the bed, so individuals with mobility disabilities can safely transfer in and out of bed.

809.2.6 Weather Alert Systems

Where weather alert systems are provided in emergency transportable housing units, this section requires the operable parts on weather alert systems in units with mobility features to comply with the technical requirements for clear floor space and reach ranges.

809.3 Residential Dwelling Units With Communication Features

As discussed below, the final rule adds technical requirements to this section for smoke alarms and weather alert systems in residential dwelling units with communication features.

809.3.1.2 Residential Dwelling Unit Smoke Alarms

This section requires residential dwelling unit smoke alarms to provide combination smoke alarms and visible notification appliances. The final rule requires combination smoke alarms and visible notification appliances to be supplied with a commercial light and power source along with a secondary power source, or a non-commercial alternating power source along with a secondary power source. This requirement is consistent with the NFPA 72 National Fire Alarm Code, which is referenced in the section.

809.3.4 Weather Alert Systems

Where weather alert systems are provided in emergency transportable housing units, this section requires weather alert systems in units with communication features to provide audible and visible output.

7. Regulatory Analyses

Executive Order 13563 (Improving Regulation and Regulatory Review) and Executive Order 12866 (Regulatory Planning and Review)

The final rule is not a significant regulatory action. FEMA is the only entity we have identified that has recently provided emergency transportable housing units to disaster survivors and will be affected by the final rule. We adhered to the principles of regulation in Executive Orders 13563 and 12866. Among other things, Executive Order 13563 directs agencies to propose or adopt a regulation only upon a reasoned determination that its benefits justify its costs; tailor the regulation to impose the least burden on society, consistent with obtaining the regulatory objectives; and, in choosing among alternative regulatory approaches, select those approaches that maximize net benefits. Executive Order 13563 recognizes that some benefits are difficult to quantify and provides that, where appropriate and permitted by law, agencies may consider and discuss qualitatively values that are difficult or impossible to quantify, including equity, human dignity, fairness, and distributive impacts. We discuss the costs and benefits of the final rule below.

Costs

FEMA maintains a baseline target inventory of emergency transportable housing units ready to deploy in response to major disasters and emergencies based on historical usage, lead time to produce additional units, and installation capacity. The baseline target inventory is reassessed at the beginning of each hurricane season and may be readjusted based on operational needs, lessons learned, and on-going analysis. FEMA's current baseline target inventory is 2,000 units and 298 of the units (approximately 15 percent of the units) are targeted as UFAS compliant.⁴⁶ The actual number of emergency transportable housing units in the inventory varies as FEMA deploys the units to disaster areas and contracts for the production of additional units as needed.

⁴⁶ See note 21.

UFAS is the accessibility standard adopted by HUD for residential facilities covered by the ABA. The UFAS compliant units comply with the technical requirements in the final rule for units with mobility features, except for bedroom lighting controls and water spray units at kitchen sinks. FEMA estimated, based on input from companies that produce emergency transportable housing units, that bedroom lighting controls will add $60 and water spray units at kitchen sinks will add $75 to the cost of UFAS compliant units. All the emergency transportable housing units provided by FEMA contain the communication features required by the final rule, including combination smoke alarms and visible notification appliances complying with NFPA 72 National Fire Alarm Code and weather alert systems with audible and visible output. FEMA will not incur additional costs to comply with the technical requirements in the final rule for units with communication features.

We assumed that FEMA will provide bedroom lighting controls and water spray units at kitchen sinks in new UFAS compliant units purchased after the final rule is issued, and will not wait until HUD updates its accessibility standards for residential facilities covered by the ABA to be consistent with the final rule. We estimated the additional costs for FEMA to provide UFAS compliant units with bedroom lighting controls and water spray units at kitchen sinks under three scenarios. The scenarios do not represent actual costs that FEMA will incur each year since the number of UFAS compliant units deployed by FEMA varies from year to year. The scenarios are:

1. Average Number of UFAS Compliant Units Deployed per Year by FEMA. FEMA deployed an average of 165 UFAS compliant units per year in response to major disasters and emergencies declared by the President during the period from calendar year 2008 to 2013.⁴⁷ Under the first scenario, we estimated the additional costs if FEMA deploys an average 165 UFAS compliant units per year and replaces the inventory with the same number of UFAS compliant units.

⁴⁷ See note 22.

2. Baseline Target Inventory of UFAS Compliant Units Maintained by FEMA. Under the second scenario, we estimated the additional costs if FEMA deploys the 298 UFAS compliant units in its baseline target inventory and replaces them with the same number of UFAS compliant units. These costs may be incurred over more than one year if all the UFAS compliant units in the inventory are not deployed in a single year.

3. UFAS Compliant Units Deployed in Event of Catastrophic Disasters Equivalent to Hurricanes Katrina and Rita. FEMA provided approximately 145,000 emergency transportable housing units to the survivors of Hurricanes Katrina and Rita.⁴⁸ Under the third scenario, we estimated the additional costs if FEMA deploys the same number of units in the event of catastrophic disasters equivalent to Hurricanes Katrina and Rita and 10, 15, or 20 percent of the units are UFAS compliant. These costs may be incurred over more than one year depending on whether the disasters occur in the early part or late part of the year and the time needed to produce large numbers of units.

⁴⁸ GAO, Disaster Housing: FEMA Needs More Detailed Guidance and Performance Measures to Help Ensure Effective Assistance after Major Disasters, August 28, 2009 at: http://www.gao.gov/products/GAO-09-796.

The additional costs for FEMA to provide UFAS compliant units with bedroom lighting controls and water spray units at kitchen sinks under the three scenarios are shown in Table 1. The additional costs under the first scenario (average number of UFAS compliant units deployed per year) are $22,275. The additional costs under the second scenario (replace baseline target inventory of UFAS compliant units) are $40,230. The additional costs under the third scenario (percentage of UFAS compliant units deployed in the event of catastrophic disasters equivalent to Hurricanes Katrina and Rita) range from $2 million to $4 million depending on whether 10, 15, or 20 percent of the units are UFAS compliant.

Table 1—Additional Costs To Provide Bedroom Lighting Controls and Water Spray Units at Kitchen Sinks in UFAS Compliant Units
Scenario | Lighting controls ($60) | Water spray units ($75) | Total costs
1. Average number of UFAS compliant units deployed per year (165 units) | $9,900 | $12,375 | $22,275
2. Replace baseline target inventory of UFAS compliant units (298 units) | 17,880 | 22,350 | 40,230
3. Percentage of UFAS compliant units deployed in catastrophic disasters equivalent to Hurricanes Katrina and Rita:
10% or 14,500 units | 870,000 | 1,087,500 | 1,957,500
15% or 21,750 units | 1,305,000 | 1,631,250 | 2,936,250
20% or 29,000 units | 1,740,000 | 2,175,000 | 3,915,000

The final rule does not allow use of the operable parts exception for electrical outlets in kitchens in emergency transportable housing units with mobility features since they typically have fewer electrical outlets than kitchens in other types of residential dwelling units. Where two or more electrical outlets are provided above a length of countertop that is uninterrupted by a sink or appliance, the exception does not require one of the outlets to comply with the technical requirements for operable parts, including clear floor space, reach ranges, and operation. Kitchen designs vary in emergency transportable housing units. Depending on the kitchen designs, electrical outlets may need to be installed in the face of the base cabinets to comply with the technical requirements for operable parts. FEMA estimated, based on input from companies that produce emergency transportable housing units, that installing electrical outlets in the face of the base cabinets will add from $150 to $500 to the cost of UFAS compliant units. The higher estimate assumes custom cabinetry is needed.

We do not have information on the various kitchen designs used by companies that produce emergency transportable housing units. We estimated the additional costs for not allowing the operable parts exception to be used for electrical outlets in kitchens in emergency transportable housing units with mobility features based on assumptions that 25, 50, and 100 percent of the units provide two or more electrical outlets above a length of countertop that is uninterrupted by a sink or appliance and need to install electrical outlets in the face of the base cabinets to comply with the technical requirements for operable parts. The additional costs for not allowing use of the operable parts exception under the three scenarios described earlier are shown in Table 2 as a range of low and high estimates. The low estimates assume that installing electrical outlets in the face of the base cabinets will add $150 to the cost of UFAS compliant units. The high estimates assume that installing electrical outlets in the face of the base cabinets will add $500 to the cost of UFAS compliant units. The additional costs under the first scenario (average number of UFAS compliant units deployed per year) range from $6,150 to $82,500. The additional costs under the second scenario (replace baseline target inventory of UFAS compliant units) range from $11,250 to $149,000. The additional costs under the third scenario (percentage of UFAS compliant units deployed in the event of catastrophic disasters equivalent to Hurricanes Katrina and Rita) range from $543,750 to $14.5 million depending on whether 10, 15, or 20 percent of the units are UFAS compliant.

Table 2—Additional Costs for Not Allowing Use of Operable Parts Exception for Electrical Outlets in Units With Mobility Features
Scenario | Percent of UFAS compliant units that need to install electrical outlets in the face of base cabinets to comply with the technical requirements for operable parts: 25 percent | Percent of UFAS compliant units that need to install electrical outlets in the face of base cabinets to comply with the technical requirements for operable parts: 50 percent | Percent of UFAS compliant units that need to install electrical outlets in the face of base cabinets to comply with the technical requirements for operable parts: 100 percent
1. Average number of UFAS compliant units deployed per year (165 units) | Low $6,150 High $20,500 | Low $12,450 High $41,500 | Low $24,750. High $82,500.
2. Replace baseline target inventory of UFAS compliant units (298 units) | Low $11,250 High $37,500 | Low $22,350 High $74,500 | Low $44,700. High $149,000.
3. Percentage of UFAS compliant units deployed in catastrophic disasters equivalent to Hurricanes Katrina and Rita:
10% or 14,500 units | Low $543,750 High $1,812,500 | Low $1,087,500 High $3,625,000 | Low $2,175,000. High $7,250,000.
15% or 21,750 units | Low $815,700 High $2,719,000 | Low $1,631,250 High $5,437,500 | Low $3,262,500. High $10,875,000.
20% or 29,000 units | Low $1,087,500 High $3,625,000 | Low $2,175,000 High $7,250,000 | Low $4,350,000. High $14,500,000.

The total additional costs to provide bedroom lighting controls and water spray units at kitchen sinks in UFAS compliant units and for not allowing use of the operable parts exception for electrical outlets in kitchens in emergency transportable housing units with mobility features are shown in Table 3 as a range of low and high estimates. The low estimates assume that 25 percent of the units provide two or more electrical outlets above a length of countertop that is uninterrupted by a sink or appliance and need electrical outlets installed in the face of the base cabinets to comply with the technical requirements for operable parts at the additional cost of $150 per unit. The high estimates assume that 100 percent of the units provide two or more electrical outlets above a length of countertop that is uninterrupted by a sink or appliance and need electrical outlets installed in the face of the base cabinets to comply with the technical requirements for operable parts at the additional cost of $500 per unit. The total additional costs under the first scenario (average number of UFAS compliant units deployed per year) range from $28,425 to $104,775. The total additional costs under the second scenario (replace baseline target inventory of UFAS compliant units) range from $51,480 to $189,230. The total additional costs under the third scenario (percentage of UFAS compliant units deployed in the event of catastrophic disasters equivalent to Hurricanes Katrina and Rita) range from $2.5 million to $18.4 million depending on whether 10, 15, or 20 percent of the units are UFAS compliant.

Table 3—Total Additional Costs
Scenario | Low estimate | High estimate
1. Average number of UFAS compliant units deployed per year (165 units) | $28,425 | $104,725
2. Replace baseline target inventory of UFAS compliant units (298 units) | 51,480 | 189,230
3. Percentage of UFAS compliant units deployed in catastrophic disasters equivalent to Hurricanes Katrina and Rita:
10% or 14,500 units | 2,501,250 | 9,207,500
15% or 21,750 units | 3,751,950 | 13,811,250
20% or 29,000 units | 5,002,500 | 18,415,000

Benefits

The scoping and technical requirements for emergency transportable housing units with mobility features will directly benefit disaster survivors with mobility disabilities who need temporary housing. The number of disaster survivors with mobility disabilities who need temporary housing will vary from disaster to disaster. During the five year period from 2008 to 2012, FEMA provided a total of 9,324 emergency transportable housing units to disaster survivors and 991of the units or 10.6 percent were UFAS compliant.⁴⁹ The number of UFAS compliant units provided in response to specific disasters ranged from zero to 345 units. In the event of catastrophic disasters equivalent to Hurricanes Katrina and Rita, the number of UFAS compliant units would be greater. FEMA provided approximately 145,000 emergency transportable housing units to the survivors Hurricanes Katrina and Rita. If FEMA were to provide the same number of emergency transportable housing units in the event of catastrophic disasters equivalent to Hurricanes Katrina and Rita and 10 to 20 percent of the units were UFAS compliant, there would be 14,500 to 29,000 UFAS compliant units for disaster survivors with mobility disabilities. The benefits of the final rule are incremental for disaster survivors with mobility disabilities since the UFAS compliant units comply with the technical requirements in the final rule for units with mobility features, except for bedroom lighting controls and water spray units at kitchen sinks. By requiring a means to control at least one source of lighting in bedrooms from the bed, individuals with mobility disabilities will be able to safely transfer in and out of bed. By requiring water spray units at kitchen sinks, individuals with mobility disabilities will be able to wash dishes without having to reach across the sink to control the water flow. The final rule also does not allow the use of the operable parts exception for electrical outlets in kitchens in emergency transportable housing units with mobility features since they typically have fewer outlets than kitchens in other types of residential dwelling units. These benefits are difficult to quantify, but include important national values recognized in Executive Order 13563 such as equity, human dignity, and fairness.

⁴⁹ See note 22.

All the emergency transportable housing units provided by FEMA contain the communication features required by the final rule, including combination smoke alarms and visible notification appliances complying with NFPA 72 National Fire Alarm Code and weather alert systems with audible and visible output so the final rule has no incremental benefits for disaster survivors who are deaf or have a hearing loss. We do not have data on the number of emergency transportable housing units provided by FEMA to disaster survivors who are deaf or have a hearing loss.

Regulatory Flexibility Act

The Regulatory Flexibility Act requires federal agencies to analyze the impacts of proposed and final rules on small entities, unless the agency certifies that the rule will not have a significant impact on a substantial number of small entities.⁵⁰ For the proposed rule, we certified that the rule will not have a significant impact on a substantial number of small entities because we did not identify any entities other than FEMA that provides emergency transportable housing units to disaster survivors. We requested comment in the proposed rule on whether any small entities provide emergency transportable housing units to disaster survivors.⁵¹ We did not receive any comments indicating that small entities provide emergency transportable housing units to disaster survivors. Accordingly, we certify that the final rule will not have a significant impact on a substantial number of small entities.

⁵⁰ 5 U.S.C. 605 (b).

⁵¹ 77 FR 36247 (June 18, 2012), Question 8.

Executive Order 13132 (Federalism)

The final rule adheres to the fundamental federalism principles and policy making criteria in Executive Order 13132. The final rule is issued pursuant to the Americans with Disabilities Act (ADA) and Architectural Barriers Act (ABA).⁵² The ADA is civil rights legislation that was enacted by Congress pursuant to its authority to enforce the Fourteenth Amendment to the U.S. Constitution and to regulate commerce. The ADA prohibits discrimination on the basis of disability. The ADA requires facilities constructed or altered by state and local governments, and public accommodations and commercial facilities constructed or altered by private entities to be readily accessible to and usable by individuals with disabilities. The ADA recognizes the authority of state and local governments to enact and enforce laws that provide for greater or equal protection for the rights of individuals with disabilities.⁵³ The ABA requires facilities constructed or altered with federal funds and facilities leased by federal agencies to be readily accessible to and usable by individuals with disabilities.

⁵² 42 U.S.C. 4151 et seq. and 42 U.S.C. 12101 et seq.

⁵³ 42 U.S.C. 12201 (b).

Unfunded Mandates Reform Act

The Unfunded Mandates Reform Act does not apply to proposed or final rules that enforce constitutional rights of individuals or enforce statutory rights that prohibit discrimination on the basis of race, color, sex, national origin, age, handicap, or disability. Since the final rule is issued pursuant to the ADA, which prohibits discrimination on the basis of disability, an assessment of the rule's effect on state, local, and tribal governments, and the private sector is not required.

List of Subjects in 36 CFR Part 1191

Buildings and facilities, Civil rights, Incorporation by reference, Individuals with disabilities, Transportation.

Michael K. Yudin,
Chair.

For the reasons stated in the preamble, we amend 36 CFR part 1191 as follows:

PART 1191—AMERICANS WITH DISABILITIES ACT (ADA) ACCESSIBILITY GUIDELINES FOR BUILDINGS AND FACILITIES; ARCHITECTURAL BARRIERS ACT (ABA) ACCESSIBILITY GUIDELINES

1. The authority citation for 36 CFR part 1191 continues to read as follows:

Authority: 29 U.S.C. 792 (b)(3); 42 U.S.C. 12204.

2. Amend Appendix B to Part 1191 by:

a. In 105.2.5, revising the section;

b. In 106.5, adding a new definition of “Emergency Transportable Housing Unit” in alphabetical order;

c. In 203.8, revising the section;

d. In 205.1, revising Exception 3 and adding new Exceptions 9, 10, and 11;

e. In 206.2.3, revising Exception 4;

f. In 206.4.6, revising the first sentence;

g. In 206.5.4, revising the section;

h. In 206.7, adding a new sentence at the end of the section;

i. In 206.7.6, revising the section;

j. In 208.2.3, revising the section;

k. In 208.2.3.1, revising the section;

l. In 208.3.2, revising the first sentence;

m. In 215.5, revising the section;

n. In 228.2, revising the last sentence;

o. In 233.2, revising the first, second and third sentences;

p. In 233.3.1, removing the Exception and revising the section;

q. In 233.3.1.1, revising the section;

r. In 233.3.1.2, revising the section;

s. Adding new sections 233.3.1.2.1, 233.3.1.2.2, 233.3.1.2.2.1, and 233.3.1.2.2.2;

t. Redesignating sections 233.3.2, 233.3.3, 233.3.4, 233.3.4.1, 233.3.4.2, and 233.3.5 as sections 233.3.3, 233.3.4, 233.3.5, 233.3.5.1, 233.3.5.2 and 233.3.6, respectively;

u. Adding new sections 233.3.2, 233.3.2.1, and 233.3.2.2;

v. Revising redesignated section 233.3.4;

w. Revising redesignated sections 233.3.5, 233.3.5.1, and 233.3.5.2; and

x. Revising redesignated section 233.3.6, redesignating the unnumbered Exception to redesignated section 233.3.6 as Exception 1, and adding a new Exception 2 to redesignated section 233.3.6.

The additions and revisions read as follows:

Appendix B to Part 1191—Americans With Disabilities Act: Scoping

* * * * *

105.2.5 NFPA. Copies of the referenced standards may be obtained from the National Fire Protection Association, 1 Batterymarch Park, Quincy, Massachusetts 02169-7471, (http://www.nfpa.org).

NFPA 72 National Fire Alarm Code, 1999 Edition (see 702.1, 809.3.1.1, and 809.3.1.2).

NFPA 72 National Fire Alarm Code, 2002 Edition (see 702.1, 809.3.1.1, and 809.3.1.2).

* * * * *

106 Defined Terms.

* * * * *

Emergency Transportable Housing Unit. A single or multiple section prefabricated structure that is transportable by a single transport vehicle and that can be set-up and installed on a temporary site in response to an emergency need for temporary housing. Such structures include, but are not limited to, travel trailers, park models, manufactured housing, and other factory-built housing. For the purposes of this document, emergency transportable housing units are considered a type of residential dwelling unit.

* * * * *

203.8 Residential Facilities. In facilities with residential dwelling units, common use areas that do not serve residential dwelling units required to provide mobility features complying with 809.2 or emergency transportable housing unit pads designed and constructed to accept the installation of units with mobility features complying with 809.2 shall not be required to comply with these requirements or to be on an accessible route.

* * * * *

205.1 General. * * *

EXCEPTIONS: * * *

3. Except within emergency transportable housing units required to provide mobility features complying with 809.2, where two or more outlets are provided in a kitchen above a length of counter top that is uninterrupted by a sink or appliance, one outlet shall not be required to comply with 309.

* * * * *

9. Operable parts located within residential dwelling units not required to provide mobility features complying with 809.2 and transient lodging guest rooms not required to provide mobility features complying with 806.2 shall not be required to comply with 309.

10. In emergency transportable housing units required to provide mobility features complying with 809.2, operable parts located beneath the unit body shall not be required to comply with 309.

11. Water shut-off valves shall not be required to comply with 309.

* * * * *

206.2.3 Multi-Story Buildings and Facilities. * * *

EXCEPTIONS: * * *

4. In facilities with residential dwelling units, an accessible route shall not be required to connect stories where residential dwelling units with mobility features required to comply with 809.2, all common use areas serving residential dwelling units with mobility features required to comply with 809.2, and public use areas serving residential dwelling units are on an accessible route.

* * * * *

206.4.6. Residential Dwelling Unit Primary Entrance. In residential dwelling units required to provide mobility features complying with 809.2, at least one primary entrance shall comply with 404. * * *

* * * * *

206.5.4 Residential Dwelling Units. In residential dwelling units required to provide mobility features complying with 809.2, all doors and doorways providing user passage shall comply with 404.

* * * * *

206.7 Platform Lifts. * * * In emergency transportable housing units, platform lifts shall not be used at the primary entrance to a unit required to provide mobility features complying with 809.2.

* * * * *

206.7.6 Guest Rooms and Residential Dwelling Units. Platform lifts shall be permitted to connect levels within transient lodging guest rooms required to provide mobility features complying with 806.2 or residential dwelling units required to provide mobility features complying with 809.2.

* * * * *

208.2.3 Residential Facilities. Parking spaces provided to serve facilities with residential dwelling units shall comply with 208.2.3.

* * * * *

208.2.3.1 Parking for Residents. Where at least one parking space is provided for each residential dwelling unit, at least one parking space complying with 502 shall be provided for each residential dwelling unit required to provide mobility features complying with 809.2.

* * * * *

208.3.2 Residential Facilities. In facilities containing residential dwelling units required to provide mobility features complying with 809.2, parking spaces provided in accordance with 208.2.3.1 shall be located on the shortest accessible route to the residential dwelling unit entrance they serve. * * *

* * * * *

215.5 Residential Dwelling Units. Where provided in residential dwelling units required to provide communication features complying with 809.3, alarms shall comply with 702.

* * * * *

228.2 Mail Boxes. * * * In facilities with residential dwelling units, where mail boxes are provided for each residential dwelling unit, mail boxes complying with 309 shall be provided for each residential dwelling unit required to provide mobility features complying with 809.2.

* * * * *

233.2 Residential Dwelling Units Provided by Entities Subject to HUD Section 504 Regulations. Where facilities with residential dwelling units are provided by entities subject to regulations issued by the Department of Housing and Urban Development (HUD) under section 504 of the Rehabilitation Act of 1973, as amended, such entities shall provide residential dwelling units with mobility features complying with 809.2 in a number required by the applicable HUD regulations. Residential dwelling units required to provide mobility features complying with 809.2 shall be on an accessible route as required by 206. In addition, such entities shall provide residential dwelling units with communication features complying with 809.3 in a number required by the applicable HUD regulations. * * *

* * * * *

233.3.1 Residential Dwelling Units with Mobility Features. Facilities, other than those containing emergency transportable housing units, shall comply with 233.3.1.1. Facilities containing emergency transportable housing units shall comply with 233.3.1.2.

233.3.1.1 Facilities Other Than Those Containing Emergency Transportable Housing Units. At least 5 percent, but no fewer than one, of the total number of residential dwelling units, other than emergency transportable housing units, in the facility shall provide mobility features complying with 809.2 and shall be on an accessible route as required by 206.

EXCEPTION: Where facilities contain 15 or fewer residential dwelling units, the requirements of 233.3.1.1 shall apply to the total number of residential dwelling units that are constructed under a single contract, or are developed as a whole, whether or not located on a common site.

233.3.1.2 Facilities Containing Emergency Transportable Housing Units. Emergency transportable housing units with mobility features shall be provided in accordance with 233.3.1.2.

233.3.1.2.1 Private Sites Provided by Occupant of Unit. Where emergency transportable housing units are installed on private sites provided by the occupant of the unit, entities shall provide emergency transportable housing units with mobility features complying with 809.2 as determined by a needs assessment conducted by the entity providing the emergency transportable housing units.

233.3.1.2.2 Group Sites. Where group sites are developed for the installation of emergency transportable housing units, entities shall comply with 233.3.1.2.2.

233.3.1.2.2.1 Unit Pads. At least 10 percent, but no fewer than one, of the unit pads prepared for the installation of emergency transportable housing units at each group site shall be designed and constructed to accept the installation of emergency transportable housing units with mobility features complying with 809.2 and shall be on an accessible route as required by 206.

233.3.1.2.2.2 Units Installed. At least 5 percent, but no fewer than one, of the total number of the emergency transportable housing units installed at each group site shall provide mobility features complying with 809.2.

233.3.2 Residential Dwelling Units with Communication Features. Facilities, other than those containing emergency transportable housing units, shall comply with 233.3.2.1. Facilities containing emergency transportable housing units shall comply with 233.3.2.2.

233.3.2.1 Facilities Other Than Those Containing Emergency Transportable Housing Units. At least 2 percent, but no fewer than one, of the total number of residential dwelling units, other than emergency transportable housing units, in the facility shall provide communication features complying with 809.3.

EXCEPTION: Where facilities contain 15 or fewer residential dwelling units, the requirements of 233.3.2.1 shall apply to the total number of residential dwelling units that are constructed under a single contract, or are developed as a whole, whether or not located on a common site.

233.3.2.2 Facilities Containing Emergency Transportable Housing Units. Entities shall provide emergency transportable housing units with residential dwelling unit smoke alarms complying with 809.3.1 and, where weather alert systems are provided, with weather alert systems complying with 809.3.4 as determined by a needs assessment conducted by the entity providing the emergency transportable housing units.

* * * * *

233.3.4 Additions. Where an addition to an existing building results in an increase in the number of residential dwelling units, the requirements of 233.3.1.1 and 233.3.2.1 shall apply only to the residential dwelling units that are added until the total number of residential dwelling units complies with the minimum number required by 233.3.1.1 and 233.3.2.1. Residential dwelling units required to comply with 233.3.1.1 shall be on an accessible route as required by 206.

223.3.5 Alterations. Alterations shall comply with 233.3.5.

EXCEPTION: Where compliance with 809.2.1, 809.2.3, or 809.2.4 is technically infeasible, or where it is technically infeasible to provide an accessible route to a residential dwelling unit, the entity shall be permitted to alter or construct a comparable residential dwelling unit to comply with 809.2 provided that the minimum number of residential dwelling units required by 233.3.1.1 and 233.3.2.1, as applicable, is satisfied.

233.3.5.1 Alterations to Vacated Buildings. Where a building is vacated for the purposes of alteration, and the altered building contains more than 15 residential dwelling units, at least 5 percent of the residential dwelling units shall comply with 809.2 and shall be on an accessible route as required by 206. In addition, at least 2 percent of the residential dwelling units shall comply with 809.3.

233.3.5.2 Alterations to Individual Residential Dwelling Units. In individual residential dwelling units, where a bathroom or a kitchen is substantially altered, and at least one other room is altered, the requirements of 233.3.1 shall apply to the altered residential dwelling units until the total number of residential dwelling units complies with the minimum number required by 233.3.1.1 and 233.3.2.1. Residential dwelling units required to comply with 233.3.1.1 shall be on an accessible route as required by 206.

EXCEPTION: Where facilities contain 15 or fewer residential dwelling units, the requirements of 233.3.1.1 and 233.3.2.1 shall apply to the total number of residential dwelling units that are altered under a single contract, or are developed as a whole, whether or not located on a common site.

233.3.6 Dispersion. Residential dwelling units required to provide mobility features complying with 809.2 and residential dwelling units required to provide communication features complying with 809.3 shall be dispersed among the various types of residential dwelling units in the facility and shall provide choices of residential dwelling units comparable to, and integrated with, those available to other residents.

EXCEPTIONS: 1. * * *

2. Emergency transportable housing units required to provide mobility features complying with 809.2 shall not be required to be dispersed among the various types of residential dwelling units in a facility or to provide choices of residential dwelling units comparable to those available to other residents.

3. Amend Appendix C to Part 1191 by:

a. In F105.2.5, revising the section;

b. In F106.5, adding a new definition of “Emergency Transportable Housing Unit” in alphabetical order;

c. In F202.6.5.8, revising the section;

d. Adding new F202.6.5.9 and F202.6.5.10;

e. In F203.9, revising the section;

f. In F205.1, revising Exception 3 and adding new Exceptions 9, 10, and 11;

g. In F206.2.3, revising Exception 3;

h. In F206.4.6, revising the first sentence;

i. In F206.5.4, revising the section;

j. In F206.7, adding a new sentence at the end of the section;

k. In F206.7.6, revising the section;

l. In F208.2.3, revising the section;

m. In F208.2.3.1, revising the section;

n. In F208.3.2, revising the first sentence;

o. In F215.5, revising the section;

p. In F228.2, revising the last sentence;

q. In F233.3.1, revising the section;

r. In F233.3.1.1, revising the section;

s. In F233.3.1.2, revising the section;

t. Redesignating sections F233.3.2 F233.3.3.1, F233.3.3.2, F233.3.4, F233.4.2, F233.4.3, F233.4.4, F233.4.4.1, F233.4.4.2, and F233.4.5 as F233.3.3, F233.3.4, F233.3.4.1, F233.3.4.2, F233.3.5, F233.4.3, F233.4.4, F233.4.5, F233.4.5.1, F233.4.5.2, and F233.4.6, respectively;

u. Adding new sections F233.3.2, F233.3.2.1, and F233.3.2.2;

v. Revising redesignated F233.3.3;

w. Revising redesignated sections F233.3.4, F233.3.4.1, and F233.3.4.2;

x. Revising redesignated section F233.3.5, further redesignating the unnumbered Exception to redesignated section F233.3.5 as Exception 1, and add a new Exception 2 to redesignated section F233.3.5;

y. In F233.4.1, removing the Exception and revising the section;

z. In F233.4.1.1, revising the section;

aa. In F233.4.1.2, revising the section;

bb. Adding new sections F233.4.1.2.1, F233.4.1.2.2, F233.4.1.2.2.1, and F233.4.1.2.2.2;

cc. Adding new sections F233.4.2, F233.4.2.1, and F233.4.2.2;

dd. Revising redesignated section F233.4.4;

ee. Revising redesignated sections F233.4.5, F233.4.5.1, and F33.4.5.2; and

ff. Revising redesignated section F233.4.6, further redesignating the unnumbered Exception to redesignated section F233.4.6 as Exception 1, and adding new Exception 2 to redesignated section F233.4.6.

The additions and revisions read as follows:

Appendix C to Part 1191—Architectural Barriers Act: Scoping

* * * * *

F105.2.5 NFPA. Copies of the referenced standards may be obtained from the National Fire Protection Association, 1 Batterymarch Park, Quincy, Massachusetts 02169-7471, (http://www.nfpa.org). NFPA 72 National Fire Alarm Code, 1999 Edition (see 702.1, 809.3.1.1, and 809.3.1.2). NFPA 72 National Fire Alarm Code, 2002 Edition (see 702.1, 809.3.1.1, and 809.3.1.2).

* * * * *

F106.5 Defined Terms.

* * * * *

Emergency Transportable Housing Unit. A single or multiple section prefabricated structure that is transportable by a single transport vehicle and that can be set-up and installed on a temporary site in response to an emergency need for temporary housing. Such structures include, but are not limited to, travel trailers, park models, manufactured housing, and other factory-built housing. For the purposes of this document, emergency transportable housing units are considered a type of residential dwelling unit.

* * * * *

F202.6.5.8 Residential Dwelling Units. Residential dwelling units, other than emergency transportable housing units, shall comply with F233.

F202.6.5.9 Emergency Transportable Housing Units with Mobility Features. Where emergency transportable housing units are installed on existing commercial sites, entities shall provide emergency transportable housing units with mobility features complying with 809.2 as determined by a needs assessment conducted by the entity providing the emergency transportable housing units.

F202.6.5.10 Emergency Transportable Housing Units with Communication Features. Where emergency transportable housing units are installed on existing commercial sites, entities shall provide emergency transportable housing units with residential dwelling unit smoke alarms complying with 809.3.1 and, where weather alert systems are provided, with weather alert systems complying with 809.3.4 as determined by a needs assessment conducted by the entity providing the emergency transportable housing units.

* * * * *

F203.9 Residential Facilities. In facilities with residential dwelling units, common use areas that do not serve residential dwelling units required to provide mobility features complying with 809.2 or emergency transportable housing unit pads designed and constructed to accept the installation of units with mobility features complying with 809.2 shall not be required to comply with these requirements or to be on an accessible route.

* * * * *

F205.1 General. * * *

EXCEPTIONS: * * *

3. Except within emergency transportable housing units required to provide mobility features complying with 809.2, where two or more outlets are provided in a kitchen above a length of counter top that is uninterrupted by a sink or appliance, one outlet shall not be required to comply with 309.

* * * * *

9. Operable parts located within residential dwelling units not required to provide mobility features complying with 809.2 and transient lodging guest rooms not required to provide mobility features complying with 806.2 shall not be required to comply with 309.

10. In emergency transportable housing units required to provide mobility features complying with 809.2, operable parts located beneath the unit body shall not be required to comply with 309.

11. Water shut-off valves shall not be required to comply with 309.

* * * * *

F206.2.3 Multi-Story Buildings and Facilities. * * *

EXCEPTIONS: * * *

3. In facilities with residential dwelling units, an accessible route shall not be required to connect stories where residential dwelling units with mobility features required to comply with 809.2, all common use areas serving residential dwelling units with mobility features required to comply with 809.2, and public use areas serving residential dwelling units are on an accessible route.

* * * * *

F206.4.6. Residential Dwelling Unit Primary Entrance. In residential dwelling units required to provide mobility features complying with 809.2, at least one primary entrance shall comply with 404. * * *

* * * * *

F206.5.4 Residential Dwelling Units. In residential dwelling units required to provide mobility features complying with 809.2, all doors and doorways providing user passage shall comply with 404.

* * * * *

F206.7 Platform Lifts. * * * In emergency transportable housing units, platform lifts shall not be used at the primary entrance to a unit required to provide mobility features complying with 809.2.

* * * * *

F206.7.6 Guest Rooms and Residential Dwelling Units. Platform lifts shall be permitted to connect levels within transient lodging guest rooms required to provide mobility features complying with 806.2 or residential dwelling units required to provide mobility features complying with 809.2.

* * * * *

F208.2.3 Residential Facilities. Parking spaces provided to serve facilities with residential dwelling units shall comply with F208.2.3.

* * * * *

F208.2.3.1 Parking for Residents. Where at least one parking space is provided for each residential dwelling unit, at least one parking space complying with 502 shall be provided for each residential dwelling unit required to provide mobility features complying with 809.2.

* * * * *

F208.3.2 Residential Facilities. In facilities containing residential dwelling units required to provide mobility features complying with 809.2, parking spaces provided in accordance with F208.2.3.1 shall be located on the shortest accessible route to the residential dwelling unit entrance they serve. * * *

* * * * *

F215.5 Residential Dwelling Units. Where provided in residential dwelling units required to provide communication features complying with 809.3, alarms shall comply with 702.

* * * * *

F228.2 Mail Boxes. * * * In facilities with residential dwelling units, where mail boxes are provided for each residential dwelling unit, mail boxes complying with 309 shall be provided for each residential dwelling unit required to provide mobility features complying with 809.2.

* * * * *

F233.2 Residential Dwelling Units Provided by HUD or Through Grant or Loan Programs Administered by HUD. Where facilities with residential dwelling units are provided by the Department of Housing and Urban Development (HUD), or through a grant or loan program administered by HUD, residential dwelling units with mobility features complying with 809.2 shall be provided in a number required by the regulations issued by HUD under Section 504 of the Rehabilitation Act of 1973, as amended. Residential dwelling units required to provide mobility features complying with 809.2 shall be on an accessible route as required by F206. In addition, residential dwelling units with communication features complying with 809.3 shall be provided in a number required by the applicable HUD regulations. * * *

* * * * *

F233.3.1 Residential Dwelling Units with Mobility Features. Facilities on military installations containing residential dwelling units, other than emergency transportable housing units, shall comply with F233.3.1.1. Facilities on military installations containing emergency transportable housing units shall comply with F233.3.1.2.

F233.3.1.1 Facilities Other Than Those Containing Emergency Transportable Housing Units. At least 5 percent, but no fewer than one, of the total number of residential dwelling units, other than emergency transportable housing units, in the facility shall provide mobility features complying with 809.2 and shall be on an accessible route as required by F206.

F233.3.1.2 Facilities Containing Emergency Transportable Housing Units. Entities shall provide emergency transportable housing units with mobility features complying with 809.2 as determined by a needs assessment conducted by the entity providing the emergency transportable housing units.

F233.3.2 Residential Dwelling Units with Communication Features. Facilities on military installations, other than those containing emergency transportable housing units, shall comply with F233.3.2.1. Facilities on military installations containing emergency transportable housing units shall comply with F233.3.2.2.

F233.3.2.1 Facilities Other Than Those Containing Emergency Transportable Housing Units. At least 2 percent, but no fewer than one, of the total number of residential dwelling units, other than emergency transportable housing units, in the facility shall provide communication features complying with 809.3.

F233.3.2.2 Facilities Containing Emergency Transportable Housing Units. Entities shall provide emergency transportable housing units with residential dwelling unit smoke alarms complying with 809.3.1 and, where weather alert systems are provided, with weather alert systems complying with 809.3.4 as determined by a needs assessment conducted by the entity providing the emergency transportable housing units.

F233.3.3 Additions. Where an addition to an existing building results in an increase in the number of residential dwelling units, the requirements of F233.3.1.1 and F233.3.2.1 shall apply only to the residential dwelling units that are added until the total number of residential dwelling units complies with the minimum number required by F233.3.1.1 and F233.3.2.1. Residential dwelling units required to comply with F233.3.1.1 shall be on an accessible route as required by F206.

F223.3.4 Alterations. Alterations shall comply with F233.3.4.

EXCEPTION: Where compliance with 809.2.1, 809.2.3, or 809.2.4 is technically infeasible, or where it is technically infeasible to provide an accessible route to a residential dwelling unit, the entity shall be permitted to alter or construct a comparable residential dwelling unit to comply with 809.2 provided that the minimum number of residential dwelling units required by F233.3.1.1 and F233.3.2.1, as applicable, is satisfied.

F233.3.4.1 Alterations to Vacated Buildings. Where a building is vacated for the purposes of alteration, at least 5 percent of the residential dwelling units shall comply with 809.2 and shall be on an accessible route as required by 206. In addition, at least 2 percent of the residential dwelling units shall comply with 809.3.

F233.3.4.2 Alterations to Individual Residential Dwelling Units. In individual residential dwelling units, where a bathroom or a kitchen is substantially altered, and at least one other room is altered, the requirements of F233.3.1 shall apply to the altered residential dwelling units until the total number of residential dwelling units complies with the minimum number required by F233.3.1.1 and F233.3.2.1. Residential dwelling units required to comply with F233.3.1.1 shall be on an accessible route as required by 206.

F233.3.5 Dispersion. Residential dwelling units required to provide mobility features complying with 809.2 and residential dwelling units required to provide communication features complying with 809.3 shall be dispersed among the various types of residential dwelling units in the facility and shall provide choices of residential dwelling units comparable to, and integrated with, those available to other residents.

EXCEPTIONS: 1. * * *

2. Emergency transportable housing units required to provide mobility features complying with 809.2 shall not be required to be dispersed among the various types of residential dwelling units in a facility or to provide choices of residential dwelling units comparable to those available to other residents.

* * * * *

F233.4.1 Residential Dwelling Units with Mobility Features. Facilities, other than those containing emergency transportable housing units, shall comply with F233.4.1.1. Facilities containing emergency transportable housing units shall comply with F233.4.1.2.

F233.4.1.1 Facilities Other Than Those Containing Emergency Transportable Housing Units. At least 5 percent, but no fewer than one, of the total number of residential dwelling units, other than emergency transportable housing units, in the facility shall provide mobility features complying with 809.2 and shall be on an accessible route as required by F206.

EXCEPTION: Where facilities contain 15 or fewer residential dwelling units, the requirements of F233.4.1.1 shall apply to the total number of residential dwelling units that are constructed under a single contract, or are developed as a whole, whether or not located on a common site.

F233.4.1.2 Facilities Containing Emergency Transportable Housing Units. Emergency transportable housing units with mobility features shall be provided in accordance with F233.4.1.2.

F233.4.1.2.1 Private Sites Provided by Occupant of Unit. Where emergency transportable housing units are installed on private sites provided by the occupant of the unit, entities shall provide emergency transportable housing units with mobility features complying with 809.2 as determined by a needs assessment conducted by the entity providing the emergency transportable housing units.

F233.4.1.2.2 Group Sites. Where group sites are developed for the installation of emergency transportable housing units, entities shall comply with 233.3.1.2.2.

F233.4.1.2.2.1 Unit Pads. At least 10 percent, but no fewer than one, of the unit pads prepared for the installation of emergency transportable housing units at each group site shall be designed and constructed to accept the installation of emergency transportable housing units with mobility features complying with 809.2 and shall be on an accessible route as required by F206.

F233.4.1.2.2.2 Units Installed. At least 5 percent, but no fewer than one, of the total number of the emergency transportable housing units installed at each group site shall provide mobility features complying with 809.2.

F233.4.2 Residential Dwelling Units with Communication Features. Facilities, other than those containing emergency transportable housing units, shall comply with F233.4.2.1. Facilities containing emergency transportable housing units shall comply with F233.4.2.2.

F233.4.2.1 Facilities Other Than Those Containing Emergency Transportable Housing Units. At least 2 percent, but no fewer than one, of the total number of residential dwelling units, other than emergency transportable housing units, in the facility shall provide communication features complying with 809.3.

EXCEPTION: Where facilities contain 15 or fewer residential dwelling units, the requirements of F233.4.2.1 shall apply to the total number of residential dwelling units that are constructed under a single contract, or are developed as a whole, whether or not located on a common site.

F233.4.2.2 Facilities Containing Emergency Transportable Housing Units. Entities shall provide emergency transportable housing units with residential dwelling unit smoke alarms complying with 809.3.1 and, where weather alert systems are provided, with weather alert systems complying with 809.3.4 as determined by a needs assessment conducted by the entity providing the emergency transportable housing units.

* * * * *

F233.4.4 Additions. Where an addition to an existing building results in an increase in the number of residential dwelling units, the requirements of F233.4.1.1 and F233.4.2.1 shall apply only to the residential dwelling units that are added until the total number of residential dwelling units complies with the minimum number required by F233.4.1.1 and F233.4.2.1. Residential dwelling units required to comply with F233.4.1.1 shall be on an accessible route as required by F206.

F233.4.5 Alterations. Alterations shall comply with F233.4.5.

EXCEPTION: Where compliance with 809.2.1, 809.2.2, or 809.2.3 is technically infeasible, or where it is technically infeasible to provide an accessible route to a residential dwelling unit, the entity shall be permitted to alter or construct a comparable residential dwelling unit to comply with 809.2 provided that the minimum number of residential dwelling units required by F233.4.1.1 and F233.4.2.1, as applicable, is satisfied.

F233.4.5.1 Alterations to Vacated Buildings. Where a building is vacated for the purposes of alteration, and the altered building contains more than 15 residential dwelling units, at least 5 percent of the residential dwelling units shall comply with 809.2 and shall be on an accessible route as required by F206. In addition, at least 2 percent of the residential dwelling units shall comply with 809.3.

F233.4.5.2 Alterations to Individual Residential Dwelling Units. In individual residential dwelling units, where a bathroom or a kitchen is substantially altered, and at least one other room is altered, the requirements of F233.4.1 shall apply to the altered residential dwelling units until the total number of residential dwelling units complies with the minimum number required by F233.4.1.1 and F233.4.2.1. Residential dwelling units required to comply with F233.4.1.1 shall be on an accessible route as required by F206.

EXCEPTION: Where facilities contain 15 or fewer residential dwelling units, the requirements of F233.4.1.1 and F233.4.2.1 shall apply to the total number of residential dwelling units that are altered under a single contract, or are developed as a whole, whether or not located on a common site.

F233.4.6 Dispersion. Residential dwelling units required to provide mobility features complying with 809.2 and residential dwelling units required to provide communication features complying with 809.3 shall be dispersed among the various types of residential dwelling units in the facility and shall provide choices of residential dwelling units comparable to, and integrated with, those available to other residents.

EXCEPTIONS: 1. * * *

2. Emergency transportable housing units required to provide mobility features complying with 809.2 shall not be required to be dispersed among the various types of residential dwelling units in a facility or to provide choices of residential dwelling units comparable to those available to other residents.

4. Amend Appendix D to Part 1191 by:

a. In 405.2, redesignating the unnumbered Exception as Exception 1 and adding new Exception 2;

b. In 405.6, adding a new Exception;

c. In 409.1, revising the first sentence;

d. In 604.5, revising Exception 2;

e. In 606.2, revising Exception 3;

f. In 606.4, adding a sentence at the end of the section;

g. In 607.4, revising Exception 2;

h. In 608.3, revising Exception 2;

i. In 608.4, revising the second sentence and Exception;

j. In 804.3, revising the section;

k. In 809.1, revising the second and third sentences;

l. Redesignating sections 809.2 and 809.2.1 as 809.2.1 and 809.2.1.1, respectively; adding new section 809.2; revising redesignated section 809.2.1 and the first sentence of redesignated section 809.2.1.1; and adding new section 809.2.1.2;

m. Redesignating sections 809.3 and 809.4 as 809.2.3 and 809.2.4, respectively, and adding new sections 809.2.5, 809.2.5.1, 809.2.5.2, 809.2.5.3, and 809.2.6;

n. Redesignating section 809.5 as 809.3; revising redesignated section 809.3; and adding new sections 809.3.1, 809.3.1.1, 809.3.1.2, and 809.3.1.3;

o. Removing sections 809.5.1, 809.5.1.1, 809.5.1.2, 809.5.2, 809.5.2.1, 809.5.3, and 809.5.4;

p. Redesignating sections 809.5.5, 809.5.5.1, 809.5.5.2, and 809.5.6 as 809.3.2, 809.3.2.1, 809.3.2.2, and 809.3.3, respectively, and revising redesignated section 809.3.2; and

q. Adding new section 809.3.4.

The additions and revisions read as follows:

APPENDIX D TO PART 1191—TECHNICAL

* * * * *

405.2 Slope. * * *

EXCEPTIONS: 1. * * *

2. For emergency transportable housing units installed on private sites provided by the occupant of the unit, where existing physical or site constraints prohibit the installation of an entry ramp complying with 405.2, ramps shall be permitted to provide a single ramp run with a slope no steeper than 1:10 provided that the maximum rise of all ramp runs serving the unit entrance is not greater than 36 inches (915 mm).

* * * * *

405.6 Rise. * * *

EXCEPTION: For emergency transportable housing units installed on private sites provided by the occupant of the unit, where existing physical or site constraints prohibit the installation of an entry ramp complying with 405.6, ramps shall be permitted to provide a single ramp run with a rise 36 inches (915 mm) maximum.

* * * * *

409.1 General. Private residence elevators that are provided within a residential dwelling unit required to provide mobility features complying with 809.2 shall comply with 409 and with ASME A17.1 (incorporated by reference, see “Referenced Standards” in Chapter 1). * * *

* * * * *

604.5 Grab Bars. * * *

EXCEPTIONS: * * *

2. In residential dwelling units, other than emergency transportable housing units required to provide mobility features complying with 809.2, grab bars shall not be required to be installed in toilet or bathrooms provided that reinforcement has been installed in walls and located so as to permit the installation of grab bars complying with 604.5.

* * * * *

606.2 Clear Floor Space. * * *

EXCEPTIONS: * * *

3. In residential dwelling units, other than emergency transportable housing units required to provide mobility features complying with 809.2, cabinetry shall be permitted under lavatories and kitchen sinks provided that all of the following conditions are met:

(a) The cabinetry can be removed without removal or replacement of the fixture;

(b) The finish floor extends under the cabinetry; and

(c) The walls behind and surrounding the cabinetry are finished.

* * * * *

606.4 Faucets and Water Spray Units. * * * A water spray unit shall be provided at the kitchen sink in emergency transportable housing units required to provide mobility features complying with 809.2.

* * * * *

607.4 Grab Bars. * * *

EXCEPTIONS: * * *

2. In residential dwelling units, other than emergency transportable housing units required to provide mobility features complying with 809.2, grab bars shall not be required to be installed in bathtubs located in bathing facilities provided that reinforcement has been installed in walls and located so as to permit the installation of grab bars complying with 607.4.

* * * * *

608.3 Grab Bars. * * *

EXCEPTIONS: * * *

2. In residential dwelling units, other than emergency transportable housing units required to provide mobility features complying with 809.2, grab bars shall not be required to be installed in showers located in bathing facilities provided that reinforcement has been installed in walls and located so as to permit the installation of grab bars complying with 608.3.

* * * * *

608.4 Seats. * * * A folding seat shall be provided in roll-in type showers required in transient lodging guest rooms with mobility features complying with 806.2 and in roll-in type showers provided in emergency transportable housing units required to provide mobility features complying with 809.2. * * *

EXCEPTION: In residential dwelling units, other than emergency transportable housing units, seats shall not be required in transfer type shower compartments provided that reinforcement has been installed in walls so as to permit the installation of seats complying with 608.4.

* * * * *

804.3 Kitchen Work Surface. In residential dwelling units required to provide mobility features complying with 809.2, at least one 30 inch (760 mm) wide minimum section of counter shall provide a kitchen work surface that complies with 804.3.

EXCEPTION: In emergency transportable housing units, a work surface complying with 804.3 shall not be required provided that the following criteria are met:

(a) A kitchen table complying with 902 is provided within the kitchen;

(b) An electrical outlet is provided at a location within reach of the table; and

(c) All kitchen countertops are 34 inches high maximum.

* * * * *

809.1 General. * * * Residential dwelling units required to provide mobility features shall comply with 809.2. Residential dwelling units required to provide communication features shall comply with 809.3.

* * * * *

809.2 Residential Dwelling Units with Mobility Features. Residential dwelling units required to provide mobility features shall comply with 809.2

809.2.1 Accessible Routes. Accessible routes complying with Chapter 4 shall be provided within residential dwelling units in accordance with 809.2.1.

Exception: * * *

809.2.1.1 Location. At least one accessible route shall connect all spaces and elements that are a part of the residential dwelling unit. * * *

809.2.1.2 Floor Surfaces. Within emergency transportable housing units, carpet shall not be provided on floor surfaces.

* * * * *

809.2.5 Bedrooms in Emergency Transportable Housing Units. Bedrooms in emergency transportable housing units shall comply with 809.2.5.

809.2.5.1 Clear Floor Space. A clear floor space complying with 305 shall be provided on one side of a bed. The clear floor space shall be positioned for parallel approach to the side of the bed and shall be on an accessible route.

809.2.5.2 Furniture. Where bedrooms are less than 70 square feet, furniture supplied with the unit shall not overlap the accessible route, maneuvering clearances required at doors, and turning space.

809.2.5.3 Lighting Controls. A means to control at least one source of bedroom lighting from the bed shall be provided.

809.2.6 Weather Alert Systems. Where provided in emergency transportable housing units, weather alert systems shall comply with 309.1 through 309.3.

809.3 Residential Dwelling Units with Communication Features. Residential dwelling units required to provide communication features shall comply with 809.3.

809.3.1 Alarms. Alarms shall comply and 809.3.1. The same visible notification appliances shall be permitted to provide notification of building fire alarm and residential dwelling unit smoke alarm activation. Visible notification appliances used to indicate building fire alarm or residential dwelling unit smoke alarm activation shall not be used for any other purpose within the residential dwelling unit.

809.3.1.1 Building Fire Alarm System. Where a building fire alarm system is provided, the system wiring shall be extended to a point within the residential dwelling unit in the vicinity of the residential dwelling unit smoke alarm system. Notification appliances provided within a residential dwelling unit as part of the building fire alarm system shall comply with NFPA 72 (1999 or 2002 edition) (incorporated by reference, see “Referenced Standards” in Chapter 1).

809.3.1.2 Residential Dwelling Unit Smoke Alarms. Residential dwelling unit smoke alarms shall provide combination smoke alarms and visible notification appliances complying with NFPA 72 (1999 or 2002 edition) (incorporated by reference, see “Referenced Standards” in Chapter 1). Combination smoke alarms and visible notification appliances shall be supplied with power from one or more power sources as follows:

(a) A commercial light and power source along with a secondary power source; or

(b) A non-commercial alternating current (ac) power source along with a secondary power source.

809.3.1.3 Activation. All visible notification appliances within the residential dwelling unit providing notification of a building fire alarm shall be activated upon activation of the building fire alarm in the portion of the building containing the residential dwelling unit. All combination smoke alarms and visible notification appliances within the residential dwelling unit shall be activated upon smoke detection.

809.3.2 Residential Dwelling Unit Primary Entrance. Communication features shall be provided at the residential dwelling unit primary entrance and shall comply with 809.3.2.

* * * * *

809.3.4 Weather Alert Systems. Where provided in emergency transportable housing units, weather alert systems shall provide audible and visual output.

[FR Doc. 2014-10162 Filed 5-6-14; 8:45 am]

BILLING CODE 8150-01-P